DEPARTMENT OF TRANSPORTATION

Federal Railroad Administration

Notice of Funding Opportunity for Projects Located on the Northeast Corridor for the Fiscal Year 2024 Federal-State Partnership for Intercity Passenger Rail Program

AGENCY: Federal Railroad Administration (FRA), Department of Transportation (DOT).

ACTION: Notice of funding opportunity (NOFO or notice).

SUMMARY: This notice details the application requirements and procedures to obtain grant funding for projects located on the Northeast Corridor (NEC) under the Federal-State Partnership for Intercity Passenger Rail Program (FSP Program) for Fiscal Year (FY) 2024. This notice solicits applications for FSP Program funds made available by the Consolidated Appropriations Act, 2024, and Division J of the Infrastructure Investment and Jobs Act (IIJA). The opportunity described in this notice is made available under Assistance Listings Number 20.326, “Federal-State Partnership for Intercity Passenger Rail.”

DATES: Applications for funding under this solicitation are due no later than 11:59 p.m. Eastern Time, July 15, 2024. Applications that are incomplete or received after 11:59 p.m. Eastern Time, on July 15, 2024 will not be considered for funding. See Section D of this notice for additional information on the application process.

ADDRESSES: Applications must be submitted via www.Grants.gov. Only applicants who comply with all submission requirements described in this notice and submit applications through www.Grants.gov will be eligible for award. For any supporting application materials that an applicant is unable to submit via www.Grants.gov (such as oversized engineering drawings), an applicant may submit an original and two (2) copies to Mr. Bryan Rodda, Office of Amtrak and Northeast Corridor Program Delivery, Federal Railroad Administration, 1200 New Jersey Avenue SE, Washington, DC 20590. However, due to delays caused by enhanced screening of mail delivered via the U.S. Postal Service, applicants are advised to use other means of conveyance (such as courier service) to ensure timely receipt of materials before the application deadline.

FOR FURTHER INFORMATION CONTACT: For further information concerning this notice, please contact the FRA NOFO Support program staff via email at FRA-NOFO-Support@dot.gov. If additional assistance is needed, you may contact Mr. Bryan Rodda in FRA's Office of Amtrak and Northeast Corridor Program Delivery by email at Bryan.Rodda@dot.gov or telephone: 202-557-0206; or Mr. Sergio Coronado in FRA's Office of Rail Program Development by email at Sergio.Coronado@dot.gov or telephone: 617-571-1213.

SUPPLEMENTARY INFORMATION: Notice to applicants: FRA recommends that applicants read this notice in its entirety prior to preparing application materials. Definitions of key terms used throughout the NOFO are provided in Section A(2) below. These key terms are capitalized throughout the NOFO. There are several administrative and specific eligibility requirements described herein with which applicants must comply. Additionally, applicants should note that the required project narrative component of the application package may not exceed 25 pages in length.

Table of Contents

A. Program Description

B. Federal Award Information

C. Eligibility Information

D. Application and Submission Information

E. Application Review Information

F. Federal Award Administration Information

G. Federal Awarding Agency Contacts

H. Other Information

Summary Overview of Key Information: Federal-State Partnership for Intercity Passenger Rail Program for Projects Located on the Northeast Corridor (FSP-NEC)
Issuing Agency | Federal Railroad Administration, U.S. Department of Transportation.
Program Overview | The purpose of the FSP Program is to reduce the State of Good Repair backlog, improve performance, or expand or establish new intercity passenger rail service. Program funding and selections are provided separately for projects located on and off the NEC. This notice solicits applications for projects located on the NEC.
Eligible Applicants | 1. A State (including the District of Columbia); 2. A group of States; 3. An Interstate Compact; 4. A public agency or publicly chartered authority established by one or more States; 5. A political subdivision of a State; 6. Amtrak, acting on its own behalf or under a cooperative agreement with one or more States; 7. A Federally recognized Indian Tribe; and 8. Any combination of the entities described in (1) through (7).
Eligible Project Types | 1. A project to replace, rehabilitate, or repair infrastructure, equipment, or a facility used for providing intercity passenger rail service to bring such assets into a State of Good Repair; 2. A project to improve intercity passenger rail service performance, including reduced trip times, increased train frequencies, higher operating speeds, improved reliability, expanded capacity, reduced congestion, electrification, and other improvements, as determined by the Secretary; 3. A project to expand or establish new intercity passenger rail service; 4. A group of related projects described in paragraphs (1) through (3); and 5. The planning, environmental studies, and final design for a project or group of projects described in paragraphs (1) through (4).
Funding | The total funding available for awards under this NOFO is $2,034,420,932.
Deadline | Applications Due: July 15, 2024 at 11:59 p.m., Eastern Time.

A. Program Description

1. Overview

Our Nation's rail network is a critical component of the U.S. transportation system and economy. The FSP Program provides a Federal funding opportunity to improve American passenger rail assets by funding projects that reduce the State of Good Repair backlog, improve performance, or expand or establish new intercity passenger rail service, including privately operated intercity passenger rail service if an eligible applicant is involved. The FSP Program is authorized in Sections 22106 and 22307 of the IIJA, codified at 49 U.S.C. 24911, and this NOFO is funded by 2024 IIJA advance appropriations as provided in Title VIII of Division J of IIJA (Advance Appropriations), and the Consolidated Appropriations Act, 2024, Division F, Title I, Public Law 118-42 (2024 Appropriation).

The IIJA provided distinct FSP Program selection criteria for projects located on the NEC and for projects not located on the NEC. For projects located on the NEC, the law requires FRA to make selections for FSP Program funds consistent with the Northeast Corridor Project Inventory (NEC Project Inventory). FRA published the most recent NEC Project Inventory on April 15, 2024 (2024 Inventory). The 2024 Inventory can be found at https://railroads.dot.gov/elibrary/nec-inventory. This notice solicits applications for the Major Backlog, Capital Renewal, Improvement, and Stations projects and Planning Studies identified on the 2024 Inventory; it describes available FSP Program funding, application submission requirements, and the selection and evaluation criteria. For projects located off the NEC, FRA will publish a separate notice, and those projects are not eligible for funding under this announcement. Under this notice, FRA will make selections consistent with the 2024 Inventory as further described herein and only projects on the 2024 Inventory for which an application is submitted under this NOFO will be considered for award.

Consistent with the 2024 Inventory, FRA's first priority will be selecting Major Backlog Projects regardless of their Lifecycle Stage within the two-year Inventory Period. FRA's second priority will be selecting projects in or beginning the Construction Lifecycle Stage within the Inventory Period that will reduce the NEC's State of Good Repair backlog and demonstrate the likelihood of significant Intercity Passenger Rail outcomes. FRA's third priority will be selecting projects in or beginning Planning, Project Development, or Final Design for projects within the Inventory Period that will reduce the NEC's State of Good Repair backlog and demonstrate the likelihood of significant Intercity Passenger Rail outcomes.

For applicants' reference, FRA's Guidance on Development and Implementation of Railroad Capital Projects (88 FR 2163 (Jan. 12, 2023)) (FRA's Capital Projects Guidance) is now available which assists Project Sponsors in developing effective and complete Capital Projects by defining the Project Development process and describing implementation tools, processes, and documentation that may be required for a grant. FRA's Capital Projects Guidance can be found here: https://railroads.dot.gov/elibrary/fra-guidance-development-and-implementation-railroad-capital-project.

In December 2023, FRA updated its standard grant agreement terms and conditions. The new FRA grant agreement consists of three parts: Attachment 1: Standard Terms and Conditions, Attachment 2: Project-Specific Terms and Conditions, and Terms and Conditions Exhibits. The updated agreement templates are available at: https://railroads.dot.gov/grants-loans/fra-discretionary-grant-agreements. These templates are subject to revision.

The Department seeks to fund projects that advance the Administration priorities of safety, equity, climate and sustainability, workforce development, job quality, and wealth creation as described in the U.S. DOT Strategic Plan, (https://www.transportation.gov/dot-strategic-plan) and in executive orders, which are described in Section E.¹

¹ Additional information about the USDOT Strategic Plan, Research, Development and Technology Strategic Plan can be found here: https://www.transportation.gov/dot-strategic-plan.

2. Definitions of Key Terms

Terms defined in this section are capitalized throughout this notice.

a. “Capital Cost Estimate” has the meaning provided in the NEC Project Inventory.²

² Capital Cost Estimates, as identified in the 2024 Inventory tables, are presented in year of expenditure dollars. While similar to “Capital Cost Estimate” as defined in FRA's Capital Projects Guidance, Capital Cost Estimates in the 2024 Inventory may include Planning Lifecycle Stage costs, if provided by the Project Sponsor, consistent with the Northeast Corridor Commission's process used to prepare the NEC Planning Documents.

b. “Capital Project” means a project for acquiring, constructing, improving, or inspecting rail equipment, track and track structures, or a rail facility, including expenses incidental to the acquisition or Construction including pre-Construction activities (such as designing, engineering, location surveying, mapping, acquiring rights-of-way) and related relocation costs, environmental studies, and all work necessary for FRA to approve the project under the National Environmental Policy Act (NEPA); highway-rail grade crossing improvements; communication and signalization improvements; and rehabilitating, remanufacturing, or overhauling rail rolling stock and rail facilities.³

³ FRA will consider right-of-way acquisition only for applications seeking eligible Construction funding.

c. “Capital Renewal” means to repair, replace, or modernize basic infrastructure assets along a corridor section that is executed in accordance with a defined scope, schedule, and budget. Basic infrastructure assets include rails, ties, ballast, communication systems, signaling systems, electric traction power systems, and undergrade bridges.

d. “Commuter Rail Passenger Transportation” means short-haul rail passenger transportation in metropolitan and suburban areas usually having reduced fare, multiple rides, and commuter tickets, and morning and evening peak period operations, consistent with 49 U.S.C. 24102(3); the term does not include rapid transit operations in an urban area that are not connected to the general railroad system of transportation.

e. “Construction” means the Lifecycle Stage of a Capital Project during which the Capital Project is completely built, installed, and placed into use. Construction activities include, but are not limited to, physical construction and installation of the Capital Project, including testing of equipment, workforce training, and start-up testing. Construction activities occur after a project has completed Final Design.

f. “Cost Share Agreement” means an agreement between the Project Sponsor and its partner(s) that identifies, for a Shared Benefit Project, the intercity passenger rail share, the commuter rail share(s), and the local share of the eligible project before the commencement of the project. Such agreements must be prepared consistent with the project-based cost sharing requirements of the Northeast Corridor Commuter and Intercity Rail Cost Allocation Policy, as amended, and approved by the NEC Commission; for a Sole Benefit Project, the local or non-Federal share of the eligible project before commencement of the project.⁴

⁴ The Northeast Corridor Commuter and Intercity Rail Cost Allocation is available at: https://nec-commission.com/app/uploads/2018/04/2023-06-21_Cost-Allocation-Policy_v12.00_For-Publication.pdf.

g. “Final Design” or “FD” means the Lifecycle Stage of a Capital Project during which the Capital Project design is advanced to be ready for Construction. This is when final engineering plans and specifications necessary for construction of the project are produced. Final Design activities occur after a Capital Project has completed Project Development, and before a Capital Project can advance to Construction. Final Design is described in FRA's Capital Projects Guidance.

h. “Funding Need” has the meaning provided in the 2024 Inventory.

i. “Highly Rated” means a rating provided for purposes of 49 U.S.C. 24911(g)(2) to those Major Capital Projects identified as Major Backlog on the most recently published iteration of the NEC Project Inventory and all other Major Capital Projects with applications evaluated under this NOFO that receive an overall rating of Recommended or Highly Recommended.

j. “Improvement” means repair or enhancement to existing rail infrastructure, equipment, or facility, or Construction of new rail infrastructure, equipment, or facilities, that results in efficiency of the rail system and the safety of those affected by the system.

k. “Intercity Rail Passenger Transportation” means rail passenger transportation, except Commuter Rail Passenger Transportation. See 49 U.S.C. 24911(a)(3). In this notice, “Intercity Passenger Rail Service” and “Intercity Passenger Rail Transportation” are equivalent terms to “Intercity Rail Passenger Transportation.”

l. “Inventory Period” means, for the purposes of the 2024 Inventory, January 1, 2024, through December 31, 2025.

m. “Lifecycle Stage” means each of the consecutive stages of a Capital Project as it is developed and implemented that include Systems Planning, Project Planning, Project Development, Final Design, Construction, and Operation.

n. “Major Backlog Project” is a project identified by the NEC Commission as necessary to achieve a State of Good Repair, but that is not undertaken on a routine basis, including rehabilitation or replacement of major bridges and tunnels.

o. “Major Capital Project” means a Capital Project with a Capital Cost Estimate equal to or greater than $500 million and with at least $100 million in Federal assistance under the FSP Program.

p. “National Environmental Policy Act” or “NEPA” (42 U.S.C. 4321 et seq.) is a Federal law that requires Federal agencies to analyze and document the environmental impacts of a proposed action in consultation with appropriate Federal, Tribal, State, and local authorities, and with the public. Environmental review under NEPA consists of an Environmental Impact Statement (EIS), Environmental Assessment (EA) or Categorical Exclusion (CE). The NEPA class of action depends on the potential environmental impacts of the proposed action. For purposes of this NOFO, NEPA also includes all related Federal laws and regulations including the Clean Air Act, Section 4(f) of the Department of Transportation Act, Section 7 of the Endangered Species Act, and Section 106 of the National Historic Preservation Act. Additional information regarding FRA's environmental processes and requirements is located at https://railroads.dot.gov/rail-network-development/environment/environment.

q. “Northeast Corridor” (“NEC”) means the main rail line between Boston, Massachusetts, and the District of Columbia; the branch rail lines connecting to Harrisburg, Pennsylvania, Springfield, Massachusetts, and Spuyten Duyvil, New York; and facilities and services used to operate and maintain these lines, consistent with 49 U.S.C. 24911(a)(3).

r. “NEC Planning Documents” means the Northeast Corridor Commission's CONNECT NEC 2037 and the FY 2024-2028 Northeast Corridor Capital Improvement Plan.

s. “Planning Studies” are those projects which include only planning activities such as railroad transportation market forecasting, operations analysis, fleet planning, cost analysis, station and facility planning, environmental resource consideration, and other similar activities. Planning Studies are planning activities without association to a specific Capital Project in their current form.

t. “Preliminary Engineering (PE)” means engineering design to define a Capital Project, including identification of all environmental impacts and design of all critical project elements at a level sufficient to ensure reliable cost estimates and schedules. The PE development process starts with specific project design alternatives that allow for the assessment of a range of rail improvements, specific alignments, and project designs. PE is considered part of the Project Development Lifecycle Stage, as described in FRA's Capital Projects Guidance.

u. “Project Development” means the Lifecycle Stage of a Capital Project during which the Project Sponsor conducts design, environmental, and other studies to ensure the Capital Project is ready for implementation. Project Development activities occur after a Project Sponsor has completed Project Planning, and before a Capital Project can advance to Final Design. Project Development is further described in FRA's Capital Projects Guidance.

v. “Project Management Plan” means, under this NOFO, a document as provided in FRA's Capital Projects Guidance that describes how the Capital Project will be implemented, monitored, and controlled to help the Project Sponsor effectively, efficiently, and safely deliver the project on-time, within-budget, and at the highest appropriate quality.

w. “Project Planning” is the first Lifecycle Stage of a Capital Project during which the Project Sponsor identifies Capital Project concepts to adequately address transportation needs and opportunities identifies and compares costs, benefits, and impacts of project options; identifies the impacted environmental resources and engages with interested parties, agencies, and infrastructure owners. Project Planning activities are completed before a Capital Project advances to Project Development. Project Planning is further described in FRA's Capital Projects Guidance.

x. “Project Sponsor” means the entity responsible for implementing a project that may also be an applicant seeking or grantee receiving Federal financial assistance.

y. “Risk Assessment” means for a Major Capital Project, an unbiased, risk-based, probabilistic analysis that verifies the accuracy and reasonableness of the current cost estimate and schedule and results in a probability range that represents the project's cost while accounting for the range of potential costs associated with project uncertainties.

z. “State of Good Repair” means a condition in which physical assets, both individually and as a system, are (A) performing at a level at least equal to that called for in their as-built or as-modified design specification during any period when the life cycle cost of maintaining the assets is lower than the cost of replacing them; and (B) sustained through regular maintenance and replacement programs, consistent with 49 U.S.C. 24102(12).

aa. “Total Project Cost” means the sum of FSP funding, other Federal funding, and the non-Federal funding required to complete the Lifecycle Stage(s) of the project for which funding is requested in this application. In general, FRA expects the Total Project Cost to be consistent with the Funding Need for the project, as shown on the 2024 Inventory, except for those projects partially funded under previous FSP NOFOs and those projects receiving funding toward the Total Project Cost in the time period between the 2023 submission of project information by Project Sponsors to the NEC Commission to update the NEC Planning Documents and selections made under this NOFO.5 6

⁵ The Total Project Cost for projects that received partial funding in a previous FSP-NEC NOFO should reflect the same Total Project Cost provided in the application submitted under the previous NOFO. In the event that such a project is selected, FRA intends to apply both FSP award amounts to the same Total Project Cost.

⁶ The project information submitted by Project Sponsors to the NEC Commission in Summer 2023 was used to inform project information as it appears on the 2024 Inventory.

B. Federal Award Information

1. Available Award Amount

The total amount of funding made available for new FSP-NEC awards under this NOFO is $2,034,420,932. The total amount of FY 2024 funding made available for projects located on the NEC from IIJA 2024 Advance Appropriations and the 2024 Appropriation is $4,502,362,500. From this amount, FRA intends to obligate up to $2,467,941,567 to fulfill FY 2024 contingent commitments to FSP projects previously selected for Phased Funding Agreements.

FRA may elect to award additional funds beyond the funds made available from the FY 2024 Advance Appropriations by including funds from the FY 2025 Advance Appropriations to applications received under this NOFO. Any selection and award under this NOFO are subject to the availability of appropriated funds.

2. Award Size

There are no predetermined minimum or maximum dollar thresholds for awards. FRA anticipates making multiple awards with the available funding. FRA may not be able to award grants to all eligible applications even if they meet or exceed the stated criteria (see Section E, Application Review Information). Applicants must apply for a project as it appears on the NEC Project Inventory. FRA may award partial funding, as projects may require more funding than is available. Prior to selection, FRA will contact the applicant to ensure that the applicant is able to complete the project with available funding.

FRA strongly encourages that applicants seek funding for the appropriate Lifecycle Stage of a Capital Project, consistent with the 2024 Inventory and the applicable corresponding application track in Section C(3)(b) below. If, notwithstanding this direction, an application covers multiple application tracks, it must also include the justification as further described in Section C(3)(b).

Applications for a project with a Total Project Cost that has changed from the Funding Need that appears on the 2024 Inventory or that are seeking less than the Anticipated Obligation amount on the 2024 Inventory should specify the change and provide an explanation for how the remainder of the project will be funded and whether the Project Sponsor plans to apply for additional funding under a future FSP-NEC NOFO.

3. Award Type

a. Grants and Cooperative Agreements

FRA will make awards for projects selected under this notice through grant agreements or cooperative agreements. Grant agreements are used when FRA does not expect to have substantial Federal involvement in carrying out the funded activity. Cooperative agreements allow for substantial Federal involvement in carrying out the agreed upon investment, including technical assistance, review of interim work products, and increased program oversight. The term “grant” is used throughout this document and is intended to reference funding awarded through a grant agreement, as well as funding awarded through a cooperative agreement. The funding provided under this NOFO will be made available to grantees on a reimbursable basis. Applicants must certify that their expenditures are allowable, allocable, reasonable, and necessary to the approved project before seeking reimbursement from FRA. Additionally, the grantee is expected to expend non-Federal funds at the required percentage concurrent with Federal funds throughout the life of the project.

Additionally, FRA may provide grant funding in phases through a Phased Funding Agreement (PFA) for Highly Rated projects. A PFA, authorized at 49 U.S.C. 24911(g)(2), is an FRA grant agreement associated with the obligation of an initial grant award under the Partnership Program. A PFA shall: (1) establish the terms of participation by the Federal Government in the project; (2) establish the maximum amount of Federal financial assistance for the project; (3) include the period of time for completing the project, even if such period extends beyond the period for which Federal financial assistance is authorized; and (4) make timely and efficient management of the project easier in accordance with Federal law. FRA anticipates limiting the use of PFAs to projects that are currently in, or beginning, the Final Design and/or the Construction Lifecycle Stages.

A PFA is an FRA grant agreement with the phased funding provisions in effect. It provides an initial obligation, and it also provides contingent commitments that are not financial obligations of the Federal Government but relate to the future obligation of funds (subject to the availability of appropriations). In the PFA, FRA commits to provide funding as specified in the PFA for the duration of the project, as long as the grantee continues to meet the terms of the PFA, and Congress appropriates sufficient FSP Program funding for such purpose.

Applications for a Major Capital Project seeking a PFA must request a PFA in the project narrative and provide the additional information required in Section D(2)(a). Additionally, FRA may independently determine that a project is appropriate for a PFA.

b. Letters of Intent

Additionally, FRA may issue Letters of Intent (LOI) to FSP-NEC grantees proposing Major Capital Projects. Applications for a Major Capital Project that seek FSP-NEC funds beyond what is made available in this NOFO and who are seeking an LOI must request an LOI in the project narrative and provide the additional information required in Section D(2)(a). Additionally, FRA may independently determine that a project is appropriate for an LOI.

An LOI, authorized at 49 U.S.C. 24911(g)(1), is a letter from FRA to a grantee announcing “an intention to obligate” an amount to its Major Capital Project from future budget authority. LOIs are contingent commitments and not binding obligations of the Federal Government. FRA intends to use LOIs to demonstrate its intent to provide future Final Design and Construction Lifecycle Stage funding for Major Capital Projects assuming successful completion of Project Planning and Project Development Lifecycles for the project. FRA anticipates issuing LOIs primarily to projects currently in, or beginning, the Project Development Lifecycle Stage. In issuing the LOI, FRA may outline conditions and/or define readiness thresholds that the grantee may use to inform future funding requests for FSP-NEC funds.

4. Concurrent Applications

DOT and FRA may be concurrently soliciting applications for transportation infrastructure projects for several financial assistance programs. Applicants may submit applications requesting funding for a particular project to one or more of these programs. In the application for funding under this NOFO, applicants must indicate the program(s) to which they submitted or plan to submit an application for funding the entire project or certain components, as well as highlight new or revised information in the application responsive to this NOFO that differs from the previously submitted application(s).

C. Eligibility Information

This section of the notice explains applicant eligibility, cost sharing and matching requirements, project eligibility, and operational independence. Applications that do not meet the requirements in this section will be ineligible for funding. Instructions for submitting eligibility information to FRA are detailed in Section D of this NOFO.

1. Eligible Applicants

The following entities are eligible applicants for all projects permitted under this notice:

a. A State (including the District of Columbia);

b. A group of States;

c. An Interstate Compact;

d. A public agency or publicly chartered authority established by one or more States;

e. A political subdivision of a State;

f. Amtrak, acting on its own behalf or under a cooperative agreement with one or more States;

g. A Federally recognized Indian Tribe, and

h. Any combination of the entities described in (a) through (g).

Applications must be submitted by the lead applicant that serves as the primary point of contact for the application, and that if selected, will be the grantee of the FSP-NEC grant award.

To submit an application under (h) above, the lead applicant must identify the other entities(s) and include a signed statement from an authorized representative of each entity that affirms the entity joins the application. See Section D(2) for further instructions about submitting an application under 49 U.S.C. 24911(a)(1)(H).

An application submitted by Amtrak and one or more States, whether eligible under (a), (b), (f) or (h) above, must identify the lead applicant and include a signed cooperative agreement between Amtrak and the State(s) consistent with 49 U.S.C. 24911(a)(1)(F). Applications may reference entities that are not eligible (e.g., private sector firms) in an application as a partner in project funding or implementation, but ineligible entities do not qualify as an applicant and cannot be a grantee. If the applicant seeks to partner with an ineligible entity (e.g., a private intercity passenger rail operator), that intention should be made clear in the application and a letter of support from the ineligible entity should be included in the application. The eligible lead applicant who partners with other entities, private or otherwise, will be the legally responsible party to FRA under the grant agreement, including for administering and managing Federal funds for the authorized purpose and delivering the project.

2. Cost Sharing and Matching

FRA will evaluate the application based on the amount of Federal funds for the eligible project requested in the application.⁷ The Federal share of total costs for FSP projects funded under this notice shall not exceed 80 percent. The estimated total cost of a project must be based on the best available information, including engineering studies, studies of economic feasibility, environmental analyses, and information on the expected use of equipment and/or facilities, consistent with 49 U.S.C. 24911(f)(1). As stated in the 2024 Inventory, FRA will generally fund Major Backlog Projects applying under this notice up to 80 percent Federal share of the Total Project Cost of an eligible project. FRA will generally fund Capital Renewal, Improvement, and Station projects applying under this notice between 50 and 80 percent Federal share of the total cost of an eligible project. For a higher Federal share within this range, FRA will consider the extent to which: (i) projects bring assets supporting Intercity Passenger Rail service into a State of Good Repair, and (ii) and demonstrate likelihood of significant Intercity Passenger Rail outcomes. Additionally, applicants are encouraged to use FRA's cost estimate guidance documentation, “Capital Cost Estimating: Guidance for Project Sponsors,” and to account for the impact of external factors (e.g., inflation) while preparing the scope, schedule, and budget.⁸

⁷ If an applicant's Cost Share Agreement demonstrates the commitment of more non-Federal dollars than proposed in the application, the applicant should explain the distinction and confirm that the difference was intentional.

⁸ The “Capital Cost Estimating: Guidance for Project Sponsors,” is available at: https://www.fra.dot.gov/Page/P0926.

Applicants must identify the source(s) of their non-Federal share and must clearly and distinctly reflect these funds as part of the Total Project Cost. The minimum 20 percent non-Federal share may be comprised of public or private funding. FRA will not consider any Federal financial assistance, or any non-Federal funds already expended (or otherwise encumbered) toward the matching requirement, unless compliant with 2 CFR part 200.⁹ In-kind contributions, including the donation of services, materials, and equipment, may be credited as a project cost in a uniform manner consistent with 2 CFR 200.306.

⁹ See Section D(2)(a) for supporting information required to demonstrate eligibility of Federal funds for use as non-Federal share.

If Amtrak is an applicant under this NOFO, Amtrak may use ticket and other non-Federal revenues generated from its operations and other sources as well as funding provided by the Advance Appropriations under the heading “Northeast Corridor Grants to the National Railroad Passenger Corporation” to satisfy the non-Federal share requirements.

Funding under this NOFO may not be used for costs that are included in or used to meet cost sharing or matching requirements of any other federally financed award or program. If the applicant is seeking additional funding for a project that has already received Federal financial assistance, costs associated with the scope of work for the existing Federal award are not eligible for funding under this NOFO. Only new scope elements and activities (e.g., new deliverables) are eligible for funding under this NOFO.

Before applying, applicants should carefully review the principles for cost sharing or matching in 2 CFR 200.306. See Section D(2)(a) for required application information on non-Federal share and Section E for further discussion of FRA's consideration of matching funds in the review and selection process. FRA will approve pre-award costs incurred after announcement of awards consistent with 2 CFR 200.458, as applicable. Cost sharing or matching may be used only for authorized Federal award purposes.

All contracts for projects financed with Federal funds will be subject to applicable Federal requirements. Applicants that have entered into contracts for a proposed project prior to award must ensure that applicable Federal requirements are included in the contract in the event the project is selected, and Federal funds are obligated.

3. Eligible Projects

a. Only projects on the NEC Project Inventory for which an application is submitted under this NOFO will be considered for award. The following Capital Projects, including acquisition of real property interests, are eligible:

1. A project to replace, rehabilitate, or repair infrastructure, equipment, or a facility used for providing intercity passenger rail service to bring such assets into a State of Good Repair.¹⁰

¹⁰ The location of the equipment's primary use will determine whether it is a project located on the NEC.

2. A project to improve intercity passenger rail service performance, including reduced trip times, increased train frequencies, higher operating speeds, improved reliability, expanded capacity, reduced congestion, electrification, and other improvements, as determined by the Secretary.

3. A project to expand or establish new intercity passenger rail service.

4. A group of related projects described in paragraphs (1) through (3).

5. The planning, environmental studies, and Final Design for a project or group of projects described in paragraphs (1) through (4).

For projects that are on a shared corridor with Commuter Railroad Passenger Transportation or freight transportation, applicants must clearly demonstrate how the proposed project benefits Intercity Passenger Rail Transportation and that funding the proposed project would be a reasonable investment in Intercity Passenger Rail Transportation, independent and separate from consideration of the proposed project's benefits to other transportation purposes.

Capital Projects, as further defined in Section A(2), may include the acquisition of real property interests, planning, Project Development, Final Design, and Construction. Pre-Construction activities are eligible for funding independently or in conjunction with proposed funding for Construction.

Projects that include Project Development may include engineering drawings and specifications (scale drawings at the 30 percent design level, including track geometry as appropriate); design criteria, schematics, and/or track charts that support the development of PE; and work that can be funded in conjunction with developing PE, such as operations modeling, surveying, project work/management plans, preliminary cost estimates, and preliminary project schedules. Project Development funded under this NOFO must be sufficiently developed when complete to support FD or Construction activities. (See Section D(2)(a)(i) for additional information.)

b. Application Tracks: Other than as specified in the 2024 Inventory, applicants are not limited in the number of projects for which they seek funding. However, FRA strongly encourages that applications identify only one of the following tracks for an eligible project: Track 1—Planning Studies and Project Planning; Track 2—Project Development; Track 3—FD/Construction. The project tracks are based on Lifecycle Stages, and the Inventory prioritized projects based on Lifecycle Stage information provided by Project Sponsors. While applications covering multiple tracks for a project are not precluded, such applications will require a justification for varying from the 2024 Project Inventory. See Section E(1)(a). FRA will review the merit of the justification provided in evaluating the application. Applicants must identify the Federal dollar amount requested for each Lifecycle Stage, itemized by project component (if applicable) and task. Where an application covers multiple tracks, FRA may award funds based on project readiness information for what it determines is the appropriate Lifecycle Stage.

1. Track 1—Planning Studies and Project Planning: Track 1 consists of Planning Studies and planning specific to a Capital Project. Planning Studies include planning activities (with no associated Construction), and examples include: railroad transportation market forecasting, conceptual design activities (e.g., operations analysis, establishing the type and scope of capital improvements), fleet planning, cost analysis, station and facility planning, environmental resource consideration (e.g., development of a purpose and need statement, preliminary alternatives analysis, identification of environmental resources and analysis of potential environmental effects), and other similar activities. A description of Project Planning may be found in FRA's Capital Projects Guidance. Examples include: the development of a purpose and need statement; completion of conceptual engineering and other design; documentation showing that project alternatives were considered; completion of an environmental resource inventory and potential environmental concerns analysis; scale design drawings; public and stakeholder involvement; completion of an order-of-magnitude project cost estimate; and for Major Capital Projects, completion of an initial Project Management Plan. Project Planning projects funded under this NOFO must be sufficiently developed when complete to support Project Development activities.

2. Track 2—Project Development: Track 2 consists of projects for eligible Project Development activities. A description of Project Development may be found in FRA's Capital Projects Guidance. Examples include: completion of Preliminary Engineering (PE) and architectural or other design; PE drawings and specifications (scale drawings at the 30 percent design level, including track geometry as appropriate); design criteria, schematics and/or track charts that support the development of PE; work that can be funded in conjunction with developing PE, such as operations modeling, surveying, project work/management plans, preliminary cost estimates, and preliminary project schedules; completion of environmental review; and completion of applicable project management documentation (such as a Project Management Plan, schedule, Capital Cost Estimate, and financial plan). Project Development projects funded under this NOFO must be sufficiently developed when complete to support FD or Construction activities.

3. Track 3—FD/Construction: Track 3 consists of projects for eligible FD and Construction activities. A description of FD and Construction may be found in FRA's Capital Projects Guidance. Applicants must complete all necessary Planning and Project Development stages, including PE and NEPA requirements, prior to moving to the FD/Construction stage of a project. FD funded under this track includes completion of the Final Design documentation, resolving remaining uncertainties or risks associated with changes to the design and scope of the Capital Project; addressing procurement processes; and updating/completing the applicable project management documentation (such as a Project Management Plan, schedule, Capital Cost Estimate, and financial plan). During Construction, the Capital Project is completely built, installed, and placed in use. Prior to obligation, applicants selected for funding for FD/Construction must demonstrate the following to FRA's satisfaction: (A) PE is completed for the proposed project, resulting in project designs that are reasonably expected to conform to all regulatory, safety, security, and other design requirements, including those under the Americans with Disabilities Act of 1990 (ADA); (B) NEPA is completed for the proposed project; (C) the applicants have entered into the appropriate agreements with key project partners, including infrastructure-owning entities; and (D) for Major Capital Projects, a Project Management Plan, schedule, Capital Cost Estimate, and financial plan are complete and up to date.

D. Application and Submission Information

Required documents for the application are outlined in the following paragraphs. Applicants must complete and submit all components of the application. See Section D(2) for the application checklist. FRA welcomes the submission of additional relevant supporting documentation, such as planning, engineering, and design documentation, and letters of support from partnering organizations, which will not count against the project narrative 25-page limit. The Department may share application information within the Department or with other Federal agencies if the Department determines that sharing is relevant to the respective program's objectives.

1. Address To Request Application Package

Applicants may access application materials at https://www.Grants.gov and must submit all application materials in their entirety through https://www.Grants.gov no later than 11:59 p.m. Eastern Time, on July 15, 2024. Applicants must complete an Authorized Organization Representative (AOR) profile on www.Grants.gov and create a username and password. Additional information about the registration process is available at: https://www.grants.gov/applicants/applicant-registration.

Applicants are strongly encouraged to apply early to ensure that all materials are received before the application deadline. FRA reserves the right to modify this deadline. General information for submitting applications through Grants.gov can be found at: https://www.fra.dot.gov/Page/P0270. FRA is committed to ensuring that information is available in appropriate alternative formats to meet the requirements of persons who have a disability. If you require an alternative version of files provided, please contact Laura Mahoney, Office of the Chief Financial Officer, Federal Railroad Administration, 1200 New Jersey Avenue SE, Washington, DC 20590; email: laura.mahoney@dot.gov; phone: 202-578-9337.

The E-Business Point of Contact (E-Biz POC) at the applicant's organization must respond to the registration email from Grants.gov and login at www.Grants.gov to authorize the applicant as the AOR. Please note there can be more than one AOR for an organization.

If an applicant experiences difficulty at any point during this process, please call the Grants.gov Customer Center Hotline at 1-800-518-4726, 24 hours a day, 7 days a week (closed on Federal holidays). For information and instructions on each of these processes, please see instructions at: grants.gov/applicants/grant-applications/how-to-apply-for-grants.

2. Content and Form of Application Submission

FRA strongly advises applicants to read this section carefully. Applicants must submit all required information and components of the application package to be considered for funding. Applications that are not submitted on time or do not contain all required documentation will not be considered for funding. To support the application, applicants may provide other relevant and available optional supporting documentation that may have been developed by the applicant, especially such documentation that provides evidence of completion of the appropriate Lifecycle Stage(s) of a Capital Project. Additionally, applicants selected to receive funding must satisfy the requirements in 49 U.S.C. 22903 and 22905, including FRA's Buy America requirement and other grant conditions explained in part at https://www.fra.dot.gov/page/P0185 and further in Section F(2)(c) of this notice.

Required documents and information for an application package include the following:

Application information | NOFO section for guidance
Project Narrative | See D(2)(a).
Statement of Work | See D(2)(b)(i).
Environmental Compliance Documentation | See D(2)(b)(ii).
Matrix of Third-Party Agreements, Utility Company Agreements, and Railroad Agreements | See D(2)(b)(iii).
SF 424—Application for Federal Assistance ¹¹ | See D(2)(b)(iv).
SF 424A—Budget Information for Non-Construction or SF 424C—Budget Information for Construction | See D(2)(b)(v).
SF 424B—Assurances for Non-Construction or SF 424D—Assurances for Construction | See D(2)(b)(vi).
FRA's F 30—Certifications Regarding Debarment, Suspension and Other Responsibility Matters, Drug-Free Workplace Requirements and Lobbying | See D(2)(b)(vii).
FRA F 251—Applicant Financial Capability Questionnaire | See D(2)(b)(viii).
SF LLL—Disclosure of Lobbying Activities | See D(2)(b)(ix).

A. Project Narrative

This section describes the minimum content required in the project narrative of grant applications. The project narrative must follow the basic outline below to address the program requirements and assist evaluators in locating relevant information.

¹¹ The amount requested from the FSP Program on the SF-424 is the official record of request and, therefore, must match the amount requested in the project narrative and statement of work documents. Where there are discrepancies in the amount requested among the SF-424, project narrative, and statement of work, FRA will use the request reflected in the SF-424.

Project narrative section | NOFO section for guidance
I. Cover Page | See D(2)(a)(i).
II. Project Summary | See D(2)(a)(ii).
III. Project Funding | See D(2)(a)(iii).
IV. Applicant Eligibility Criteria | See D(2)(a)(iv).
V. Project Eligibility Criteria | See D(2)(a)(v).
VI. Detailed Project Description | See D(2)(a)(vi).
VII. Project Location | See D(2)(a)(vii).
VIII. Evaluation and Selection Criteria | See D(2)(a)(viii).
IX. Project Implementation and Management | See D(2)(a)(ix).

The above content must be provided in a narrative statement submitted by the applicant. The project narrative may not exceed 25 pages in length (excluding cover pages, table of contents, and supporting documentation). FRA will not review or consider project narratives beyond the 25-page limitation. If possible, applicants should submit supporting documents via website links rather than hard copies. If supporting documents are submitted, applicants must clearly identify the relevant portions of the supporting documents with the page numbers of the cited information in the project narrative. The project narrative must adhere to the following outline.

i. Cover Page: include a cover page that lists the following elements in either a table or formatted list:

Project Title
Lead Applicant Name
Other Applicant Name(s), if applying under 49 U.S.C. 24911(a)(1)(h)
Capital Cost Estimate | $
Amount of FSP Program funding requested under this NOFO | $
Amount of proposed non-Federal share for FSP Program funding requested under this NOFO | $
Source(s) of proposed non-Federal share Are any funds expected to be borrowed? | If yes, provide lending source and amount.
Total Project Cost | $
Total cost by Lifecycle Stage(s) for which funding is requested under this NOFO (list each Lifecycle Stage and cost separately) | $
Was a Federal grant application previously submitted for this project? | Yes/No.
If yes, state the name of the Federal grant program, funding year, and project title from the previous application. | Federal grant program: What is different in this application from the previous?
City(-ies), County(-ies), State(s) where the project is located.
Congressional District(s) where the project is located
Geospatial data for project location(s) in decimal degrees (with at least five decimal places of precision) If a track segment or corridor, provide start and end point data
Current Lifecycle Stage of project at time of application
Anticipated completion date of current Lifecycle Stage
Application Track and Lifecyle Stage proposed to be funded by this NOFO
Intercity Passenger Rail service(s) benefiting from the project (including any Long-Distance services)
Is the project, now or upon completion, located on real property or right-of-way owned by someone other than the applicant? | If yes, list the property, owners, and the nature of the property interest for each.¹²
Host Railroad/infrastructure owner(s) of project assets
Other impacted Railroad(s)
Tenant Railroad(s), if applicable
If applicable, is a 49 U.S.C. 22905-compliant Railroad Agreement in place or pending? | Yes/No/Pending.
LOI/PFA requested? | Yes/No.
If LOI requested, provide amount of future request | $
If PFA requested:
(a) Provide amount of request under this NOFO for initial obligation. | $
(b) Provide amount of request under this NOFO for contingent commitment (equal to the remaining amount of the project cost) | $

ii. Project Summary: Provide a brief, 4-6 sentence summary of the proposed project. Include challenges the proposed project aims to address and summarize the intended outcomes and anticipated benefits that will result from the proposed project.

¹² In the property listing, please include estimated location, area, and expected use of property in relation to the project. A full legal description is currently unnecessary.

iii. Grant Funds, Sources, and Use of Project Funds: Project budgets should show how different funding sources will contribute to each activity and present the data in year of expenditure dollars and percentages. The budget should identify other Federal funds the applicant is applying for, has been awarded, or intends to use. Funding sources should be grouped into three categories: non-Federal, FSP request, and other Federal with specific amounts for each funding source that total the Total Project Cost. Unless the Project Sponsor has secured other funding for the project since the date of the 2024 Inventory, FRA expects the Total Project Cost to be consistent with the column titled “Funding Need” on the 2024 Inventory. FRA may not award more funding for a project than is requested in an application. The applicant should itemize funding to be spent during the Inventory Period by project Lifecycle Stage(s) and by project activity. Applicants must describe whether non-Federal funds are currently available for the project or will need to be secured if the project is selected for funding. To demonstrate availability, applicants should submit evidence of the availability of Non-Federal funds for FSP Program request and other Federal funding (if applicable), which may include a board resolution, letter of support from the State, a budget document highlighting the line item or section committing funds to the proposed project. The applicant may provide this documentation in an appendix. Documentation of previous and recent local investments in the project may be evidence of local financial commitment to the project but cannot be used to satisfy non-Federal matching requirements. Any funding commitment letters must be signed by an authorized representative of the entity providing a non-Federal share. For a Major Capital Project, applicants are encouraged to provide an annualized budget in year of expenditure dollars. Project budget information must be consistent throughout all application materials, specifically the Standard Form (SF) 424, project narrative, statement of work, and funding commitment letters.¹³ The project budget should be specific to the project scope described in the applicant's request for funding under this NOFO for project activities during the Inventory Period. If the project proposed to be funded under this NOFO is part of a larger scope, the applicant may reference the larger scope in the project narrative but should only include within the budget table the project scope identified on the 2024 Inventory and that is proposed to be funded under this NOFO.

¹³ If there is a discrepancy between materials, FRA will use the funding amounts shown in the applicant's SF 424 as the amount requested for funding.

If Federal funding is proposed as match, demonstrate the applicant's determination of eligibility for such use and the legal basis for that determination. Also, note if the requested Federal funding under this NOFO or other programs must be obligated or spent by a certain date due to dependencies or relationships with other Federal or non-Federal funding sources, related projects, law, or other factors. Indicate whether the applicant anticipates securing financing for the project, and what the source, amount and terms will be. Eligible costs may not be more than the cost of the most favorable financing terms reasonably available for the project at the time of borrowing. If applicable, the applicant will certify that the applicant has shown reasonable diligence in seeking the most favorable financing terms consistent with 49 U.S.C. 24911 (g)(2)(c)(iii). Additionally, please indicate whether any expected financing will render the applicant unable to comply with the terms of 2 CFR part 200 or FRA's grant agreement template. If applicable, the applicant should provide the type and estimated value of any proposed in-kind contributions, as well as explain how the contributions meet the requirements in 2 CFR 200.306.

Identify any previously incurred costs the applicant believes are eligible under project scope, the dates the costs were incurred, and a citation to the statutory authority permitting such costs.

Additionally, applicants should identify and describe Lifecycle Stages and/or project components that could be candidates for subsequent FSP funding if such funding becomes available. PFA disbursements are not required to align with project components with independent utility or operational independence, since the project as a whole achieves independent utility and operational independence. However, applicants are encouraged to identify meaningful milestones by which FRA can measure project progress for each forecasted funding request.

Example Project Funding Tables: Applicants may use the following tables to describe project funding, and may use additional rows and columns, or additional project funding tables, as appropriate.

¹⁴ For other Federal funds that will be used for the project, the applicant should identify the Federal program and fiscal year of the funding request(s), as well as highlight new or revised information in the application responsive to this NOFO that differs from the application(s) to other financial assistance programs.

Table 1—Project Funding, Overview
Task # | Task name/project component | Cost | Percentage of total cost | Source of funds and citation
1
2
Total Project Cost:
Federal Funds received from previous FSP grant(s)
Federal FSP funding requested in this application
Non-Federal FSP funding | Cash: In-Kind:
Other Federal funding committed and pending (e.g., Federal Highway Administration, congressionally directed/earmark, other FRA grant program funds—including previous FSP grants, etc.) ¹⁴ | Committed Amount:
Note: If there are multiple sources of other Federal funding, please break funding down by each source | Pending Amount:
Other non-Federal funding

Use table 2 to provide a funding breakdown by Lifecycle Stage/Project Track. If not applicable, provide explanation.

If requesting a PFA for FD and Construction costs, complete Project Funding Table 3. Add additional FYs, as appropriate.

¹⁵ Duplicate columns 4 and 5 as needed to accommodate each other Federal funding source.

¹⁶ FRA expects that Total Project Cost will generally reflect the amount in the column titled “Funding Need” in the 2024 Inventory because the application request should only be for costs to fund the Lifecycle Stages during the Inventory Period.

¹⁷ Columns 5 and 7 may be divided to individually show source and funding amounts per line item.

Table 3—Project Funding, Phased Funding Agreement:
Lifecycle stage | Initial obligation request (FY 2024) | FY 2025 obligation request | FY 2026 obligation request | Total FSP-NEC request
Final Design | $ | $ | $ | $
Construction | $ | $ | $ | $
Total FSP-NEC Request | $ | $ | $ | $

iv. Applicant Eligibility Criteria: Explain how the lead applicant meets the applicant eligibility criteria outlined in Section C(1) of this notice. Include citations to applicable enabling legislation in support of the applicant's eligibility to receive Federal funds. For public agencies and publicly chartered authorities established by one or more States, the explanation must include relevant legislative language and citations to the applicable enabling legislation. To submit a combined application under 49 U.S.C. 24911(a)(1)(H), the lead applicant must identify the other eligible applicant(s) and include a signed statement from an authorized representative of each entity that affirms the entity joins the application.

For applications involving Amtrak and one or more States, Amtrak and the State(s) must provide a cooperative agreement for the project signed by authorized representatives of Amtrak and each State. Such cooperative agreements must include a description of the roles and responsibilities of each party, including budget and subrecipient information showing how the parties will share project costs. A Cost Share Agreement signed by Amtrak and one or more States would address this requirement if it addressed the requirements above.

v. Project Eligibility Criteria: Explain how the proposed project meets the project eligibility criteria in Section C(3)(a) of this notice. Include a statement confirming that the proposed project is consistent with the 2024 Inventory or provide a statement indicating that there have not been material changes to infrastructure, service conditions or Project Sponsor capabilities or commitments, or other significant changes that may affect the scope, schedule, or budget of the project. FRA will review the following for Inventory consistency: Project Sponsor, Funding Need, Lifecycle Stage, Schedule, and Scope.¹⁸

¹⁸ In this NOFO, the terms “applicant” and “Project Sponsor” are used interchangeably.

If these data elements differ from the information shown on the project on the 2024 Inventory, the applicant must provide a statement explaining and/or justifying such changes and how they are a result of materially changed infrastructure or service conditions, changes in Project Sponsor capabilities or commitments, or other significant changes since the completion of the 2024 Inventory, consistent with 49 U.S.C. 24911(d)(1)(A). The justification should demonstrate why the changed circumstances could not reasonably have been known at the time Project Sponsors provided information to the NEC Commission to update the NEC Planning Documents. If the application proposes to exclude scope that was included in the 2024 Inventory because that scope was funded from a different source, applicants should contact FRA for technical assistance regarding permissibility of including costs in the FSP-NEC project.

Projects shown on the 2024 Inventory as funded through Construction are assumed complete with no remaining Funding Need. If the applicant wishes to apply for funding to support a Lifecycle Stage for which FSP funding has been awarded previously, the project narrative must include a justification to demonstrate why the additional funding is necessary (e.g., significant changes in scope of project since award, partial funding awarded in prior years). Such applicants should include how the Federal and non-Federal amounts from the previously selected project fit into the budget for the Total Project Cost.

vi. Detailed Project Description: The applicant must include a detailed project description that expands upon the brief project summary. This detailed description should provide, at a minimum: a description of the scope of the entire project, as well as a description of the scope of the specific elements of the project for which funding is being requested in this NOFO; a project schedule showing completed and expected start and end dates for each Lifecycle Stage; additional background on the transportation challenges the project aims to address; a summary of current and proposed railroad operations in the project area and service frequency to include identification of all railroad owners and operators; the expected users and beneficiaries of the project, including all railroad operators and types of passenger or freight rail service operating or proposed to operate in the project area; and any other information the applicant deems necessary to justify the proposed project. See table 4 for specific project data requests. For projects that benefit intercity and commuter rail services, the applicant should include a statement that Amtrak and the public authorities providing Commuter Rail Passenger Transportation at the eligible project location are in compliance with 49 U.S.C. 24905(c)(2) and identifying the funding for the intercity passenger rail share, the commuter rail share, and the local share of the project before commencement of the project. Applicants must identify these shares for the Lifecycle Stage(s) for which they are seeking funding (for example, an application seeking funding for Project Development must identify funding shares only for the Project Development Lifecycle Stage and not for the FD and Construction stages of the same project).

For all projects, applicants must provide information about proposed performance measures, as described in Section F(3)(d) and required in 2 CFR 200.301.

vii. Project Location: Applicants must include geospatial data for the project, as well as a map of the project's location. Geospatial data must be expressed in decimal degrees for latitude and longitude with at least five decimal places of precision.¹⁹ If the project includes a length of track or corridor development, the start and end coordinates for each corridor or segment must be provided. All Congressional districts in which the project will take place should be provided. Milepost, railroad, and subdivision identifiers can also be provided but must be accompanied by corresponding latitudes and longitudes. For projects with multiple locations, the corresponding geospatial data must be included for each location, with individual columns for latitude and longitude, in table form as an attachment to the application.

¹⁹ For example, if a project was proposed to take place at the Department of Transportation Headquarters in Washington, DC then the reported latitude should be 38.87589, and the longitude should be reported as −77.00337.

viii. Evaluation and Selection Criteria: The applicant must include a thorough discussion of how the proposed project meets the evaluation and selection criteria. As described in Section E, FRA will evaluate applications based on project readiness, technical merit, and project outcomes, and will consider how the applicant's project aligns with the Administration priorities. If an application does not sufficiently address the evaluation criteria and the selection criteria, it is unlikely to be a competitive application. Applicants are expected to follow the directions and format requested in this NOFO, and adherence to these directions will be considered in evaluations.

FRA expects applicants to include quantifiable railroad data, such as information on typical daily, weekly, or annual train movement by operator; ridership data for passenger operations; failure or safety incidents; service delays; and primary expected project outcomes such as increased ridership, increased trains, increased speed, reduced delays, improved rail network asset condition and performance, or similar outcomes and benefits. Applicants may also include qualitative data on accessibility improvements to either new or existing assets. To the extent feasible, such railroad metrics should be provided and analyzed discretely for Intercity Rail Passenger Transportation and, if applicable, Commuter Rail Passenger Transportation and freight rail transportation services involved in the proposed project. For operating speed outcomes, applicants should include details on curve modifications within the project scope, if any.

Applicants must organize responses to the requested project outcomes data consistent with table 4. Define the project area used for the data in the narrative. Indicate, also, if the project area changes based on the data table. For example, ridership data may be tracked between passenger stations on either side of the project area, while delays may be tracked according to railroad interlockings on either side of the project area. Applicants are expected to provide the requested data to the maximum extent practicable. Appropriate rounding or best estimates are acceptable in instances where precise data is unavailable or to account for possible uncertainty. Where data is not available, applicants may provide a qualitative explanation of the anticipated impact of the project.

Table 4—Project Outcomes ²⁰
Ridership in the Project Area
| Current |  | Projected
Total Annual Ridership
Annual Intercity Passenger Rail Ridership
Annual Commuter Passenger Rail Ridership
Train Counts in the Project Area
| Current |  | Projected
Total Weekly Trains
Weekly Intercity Passenger Rail Trains
Weekly Commuter Rail Trains
Weekly Freight Trains
Operating Speeds in the Project Area
| Current, IPR | Projected, IPR | Current, CR | Projected, CR
Average Operating Speed (mph)
Highest Maximum Authorized Speed (mph)
Lowest Maximum Authorized Speed (mph)
Average Scheduled Travel Time (Time/Trip)
Infrastructure-Related Delay in the Project Area
| Current |  | Projected
Annual Delay Minutes Attributed to Infrastructure
Annual Delay Incidents Attributed to Infrastructure
Asset Condition
Provide the percentage of the Total Project Cost that will support replacement, rehabilitation, or |  |  |
repair of existing assets (either in-kind or with improved assets) versus addition of new assets | Existing Assets |  | New Assets
that expand the capacity of the railroad network? | % |  | %
Provide a brief description (1-2 sentences) of the asset condition assessment used to determine the condition ratings reported below.

For each of the following asset types, indicate whether replacement, rehabilitation, or repair will occur under this project. If yes, provide the quantity or mileage affected, as well as the age of the existing asset and when it was last in a State of Good Repair. Add rows where needed to provide appropriate detail. | Included in project? (Yes/No) | Quantity/ mileage | Original installation year | Most recent rehabilitation year (for work similar to the applicant's proposed scope) | Most recent condition rating (excellent, good, fair, poor)
Track (miles)
Ballast (miles)
Concrete Ties
Wood Ties
Culverts
Catenary Poles
Catenary Wire
Substations
Central Instrument Houses
Signals
Switch Machines
Turnouts
Bridges (Provide Bridge Name/Location.)
Tunnels (Provide Tunnel Name/Location.)

ix. Project Implementation and Management: Applicants must describe proposed project implementation and project management arrangements. Include descriptions of the expected arrangements for project contracting (Construction, maintenance, and operation), contract oversight and control, change-order management, risk management, and conformance to Federal requirements for project progress reporting (see FRA Reports, available at: https://www.fra.dot.gov/Page/P0274).

²⁰ In table 4, “Current” means “prior completed fiscal year” and “Projected” means “first full year of operation following project completion.”

For Track 3 (FD/Construction) applications:

(A) Describe the scale of track outages and type of outages expected to implement the project. Types of outages could include overnight outage, daytime outage, extended outage (e.g., 55-hour weekend outage), continuous outage, foul time, and no outage. Include a description of how rail service will be affected and how Project Sponsors will coordinate with other users of the railroad to assess and mitigate existing service; and

(B) Include a discussion on the types of force account needs and associated risk expected for the implementation of the project, as well as the systems or plans will be required to mitigate the risk. Force account types could include communications and signal, train and engine, electric traction, track, and bridges and buildings.

Further, all applicants must provide their plan for taking affirmative steps to employ small businesses consistent with 2 CFR 200.321. Describe experience in managing and overseeing similar projects; the technical qualifications and demonstrated experience of key personnel proposed to lead and perform the technical efforts; and the qualifications of the primary and supporting organizations to execute the proposed project fully and successfully within the proposed timeframe and budget, including a discussion of the factors in 2 CFR 200.206(b) and the proposed approach to assessing and mitigating project risk.

B. Additional Application Elements

Applicants must submit the following documents and forms. Note, the Standard OMB Forms needed for the electronic application process are available at: www.Grants.gov.

i. A statement of work (SOW) addressing the scope, schedule, budget, and performance measures for the proposed project if it were selected for award. The applicant should include sufficient detail in the SOW so FRA can understand the expected outcomes of the proposed work to be performed and can monitor progress toward completing project tasks and deliverables during a prospective grant's period of performance. Applicants are expected to organize the SOW in the form of Articles 4-7 of Attachment 2: Project Specific Terms and Conditions of FRA's grant template. Applications that do not follow this format may be considered incomplete and may not be reviewed.²¹

²¹ The FRA grant agreement consists of three parts: Attachment 1: Standard Terms and Conditions, Attachment 2: Project-Specific Terms and Conditions, and Terms and Conditions Exhibits. The agreements are available at: https://railroads.dot.gov/grants-loans/fra-discretionary-grant-agreements.

When preparing the budget, the total cost of a project must be based on the best available information as indicated in cited references that include engineering studies, economic feasibility studies, environmental analyses, and information on the expected use of equipment or facilities. Applicants must include annual budget estimates in year of expenditure dollars for the duration of the project.

For Major Capital Projects applying under Track 3 (FD/Construction), the applicant must attach (or link) the following supplemental material:

A. Schedule in .pdf and either .mpp or .xer, reflecting:

1. The activities needed to accomplish the project work along with the duration of each activity, including completion of prerequisite activities (such as design, NEPA, funding, right-of-way acquisition, agreements, permits/approvals) needed to begin delivery of the project defined by the application and indicating the project critical path;

2. Logical sequence of the activities and major milestones, including project phasing and seasonal and/or third-party restrictions on Construction periods;

3. Relationships between the activities;

4. Narrative description of schedule and basis and assumptions in the schedule; along with a summary of schedule risks;

5. Project completion (month and year), including dates of substantial completion, final completion, and revenue service, along with the date when the Project Sponsor anticipates accepting the work; and

6. Level of detail commensurate with project size.

B. Cost estimate in .pdf and .xlsx formats, reflecting:

1. All costs and value of resources needed or incurred for the Project Development, Final Design and Construction, including design costs, right-of-way/right-of-way procurement, environmental mitigation, public outreach, Construction, overall project management, appropriate contingency for unknowns, costs/resources paid to third parties for work related to the project such as utility relocations;

2. Correlation with the preliminary project design to estimate specific quantities for each work element and unit costs used and alignment with the project scope and project schedule;

3. A midpoint of Construction or annual escalation to year-of expenditure to account for cost escalation;

4. Documentation of assumptions, methodologies, sources, and exclusions;

5. Financing costs, itemized and shown separately; and

6. Narrative description describing and explaining the logic, methods, assumptions, and calculations used in the estimate.

C. Risk Register in .pdf and .xlsx formats, reflecting:

1. An objective list of risks and explanation of each risk's potential impacts on the project, organized by risk category (e.g., market, design, right-of-way, utilities, permits, environmental, Construction, etc.);

2. A scoring of each risk showing an objective judgement of relative severity of risk to project cost and to project schedule;

3. Planned mitigations for each risk; and

4. Number of identified risks, commensurate with project size.

D. A Project Management Plan describing how the capital project will be implemented, monitored, and controlled to help the Project Sponsor effectively, efficiently, and safely deliver the project on-time, within-budget, and at the highest appropriate quality. It should include:

1. An organization chart showing key individuals (whether Sponsor or consultant team members) that will be responsible for key aspects of project delivery for the Project;

2. Brief resume explaining background and experience of primary project delivery personnel (e.g., project manager, grant manager, design manager, agreements manager, third-party/utility manager, real estate manager, quality manager, safety manager, construction manager, risk manager, financial manager, and testing/start-up manager, as applicable); and

3. A matrix of all agency permits and agreements needed for the project, noting the nature of the permit, agency/entity granting the permit, date permit anticipated to be issued, and date by which, if not issued, it will impact project critical path. Agreements may include those governing the construction, operation, and maintenance of the Project such as those with governing bodies and partnering agencies.

ii. Environmental compliance documentation, as applicable, if a website link is not cited in the project narrative. Applicants should explain what Federal (and, if appropriate, State, Tribal, and local) environmental compliance and permitting requirements have been completed. Such requirements include NEPA and other Federal, Tribal, local, and State permitting requirements, if applicable. For all other Federal, Tribal, local, and State environmental permitting requirements, the applicant should describe which permits apply, the status of those reviews, and the expected timeline for completion. If the NEPA process is complete, an applicant should indicate the date of completion, and provide a website link or other reference to the documents demonstrating compliance with NEPA, which might include final Categorical Exclusion determination documentation, a Finding of No Significant Impact, or a Record of Decision. If the NEPA process is not yet underway, the application should state this. If the NEPA process is underway, but not complete, the application should detail the type of NEPA review underway, where the project is in the process, and indicate the anticipated date of completion of all NEPA and other environmental requirements. Additional information regarding FRA's environmental processes and requirements are located at https://fra.dot.gov/environment.

iii. A matrix of all third-party agreements necessary for the applicant to have the financial, technical, and legal authority to complete the project for the originally authorized purpose, including utility company agreements, and agreements needed for construction of the project, and agreements allocating responsibility for ownership, operation, and maintenance of the project after completion. For each agreement, the matrix should note the nature of agreement, signing parties to agreement, date agreement anticipated to be executed, and date by which, if not executed, it will impact project critical path. FRA encourages applicants to enclose or link draft or finalized agreements in their application materials.

FRA encourages early cooperation between applicants and any relevant infrastructure owners. Under 49 U.S.C. 22905(c)(1), a grant applicant must have a written agreement with a railroad that owns rights-of-way to be used by the project (referred to as the 22905 Agreement) prior to grant obligation. If the agreement is complete, an applicant should indicate the agreement's effective date, and provide a website link or attach the agreement as part of the application. The written agreement between the grantee and the railroad should describe use and ownership, including any compensation for such use; assurances regarding the adequacy of infrastructure capacity to accommodate both existing and future freight and passenger operations; an assurance by the railroad that collective bargaining agreements with the railroad's employees, including terms regulating the contracting of work, will remain in full force and effect according to their terms for work performed by the railroad on the railroad transportation corridor; and an assurance that the grantee complies with liability requirements consistent with 49 U.S.C. 28103. For additional guidance, see the FRA Answers to Frequently Asked Questions about Rail Improvement Grant Conditions under 49 U.S.C. 22905(c)(1): https://railroads.dot.gov/elibrary/frequently-asked-questions-about-rail-improvement-grant-conditions-under-49-usc-ss-22905c1.

iv. SF 424—Application for Federal Assistance.

v. SF 424A—Budget Information for Non-Construction or SF 424C—Budget Information for Construction.

vi. SF 424B—Assurances for Non-Construction or SF 424D—Assurances for Construction.

vii. FRA F30—Certification Regarding Debarment, Suspension and Other Responsibility Matters, Drug-Free Workplace Requirements and Lobbying, located at https://railroads.dot.gov/elibrary/fra-f-30-certifications-regarding-debarment-suspension-and-other-responsibility-matters.

viii. FRA F251—Applicant Financial Capability Questionnaire, located at https://railroads.dot.gov/elibrary/fra-f-251.

ix. SF LLL—Disclosure of Lobbying Activities.

C. Post-Selection Requirements

See Section F(2) of this notice for post-selection requirements.

3. Unique Entity Identifier and System for Award Management (SAM)

To apply for funding through Grants.gov, applicants must be properly registered in SAM before submitting an application, provide a valid unique entity identifier in its application, and continue to maintain an active SAM registration all as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date.

FRA may not make a grant award to an applicant until the applicant has complied with all applicable SAM requirements, and if an applicant has not fully complied with the requirements by the time the Federal awarding agency is ready to make a Federal award, the Federal awarding agency may determine that the applicant is not qualified to receive a Federal award and use that determination as a basis for making a Federal award to another applicant. Late applications, including those that are the result of a failure to register or comply with Grants.gov applicant requirements in a timely manner, will not be considered. If an applicant has not fully complied with the requirements by the submission deadline, the application will not be considered. To submit an application through Grants.gov, applicants must follow the directions in Section D(3)(c).

a. Register With the SAM at www.SAM.gov

All applicants for Federal financial assistance must maintain current registrations in the SAM database. An applicant must be registered in SAM to successfully register in Grants.gov. The SAM database is the repository for standard information about Federal financial assistance applicants, grantees, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award, including information on a grantee's immediate and highest-level owner and subsidiaries, as well as on all predecessors that have been awarded a Federal contract or grant within the last three years, if applicable. Information about SAM registration procedures is available at www.SAM.gov.

b. Obtain a Unique Entity Identifier

On April 4, 2022, the Federal Government discontinued using DUNS numbers. The DUNS Number was replaced by a new, non-proprietary identifier that is provided by the System for Award Management (SAM.gov). This new identifier is called the Unique Entity Identifier (UEI), or the Entity ID. To find or request a Unique Entity Identifier, please visit www.SAM.gov.

c. Create a Grants.gov Username and Password

Applicants must complete an Authorized Organization Representative (AOR) profile on www.Grants.gov and create a username and password. Applicants must use the organization's UEI to complete this step. Additional information about the registration process is available at: https://www.grants.gov/applicants/applicant-registration.

d. Acquire Authorization for Your AOR From the E-Business Point of Contact

The E-Biz POC at the applicant's organization must respond to the registration email from Grants.gov and login at www.Grants.gov to authorize the applicant as the AOR. Please note there can be more than one AOR for an organization.

e. Submit an Application Addressing All Requirements Outlined in This NOFO

If an applicant has trouble at any point during this process, please call the Grants.gov Customer Center Hotline at 1-800-518-4726, 24 hours a day, 7 days a week (closed on Federal holidays). For information and instructions on each of these processes, please see instructions at: https://www.grants.gov/support.

4. Submission Dates and Times

Applicants must submit complete applications to www.Grants.gov no later than 11:59 p.m. Eastern Time, July 15, 2024. Applicants will receive a system-generated acknowledgement of receipt. FRA reviews Grants.gov information on dates/times of applications submitted to determine timeliness of submissions. Late applications will be neither reviewed nor considered, no exceptions. To apply for funding under this announcement, all applicants are required to be registered as an organization with Grants.gov. Applicants are strongly encouraged to apply early to ensure all materials are received before this deadline.

To ensure a fair competition of limited discretionary funds, no late submissions will be reviewed for any reason, including: (1) failure to complete the Grants.gov registration process before the deadline; (2) failure to follow Grants.gov instructions on how to register and apply as posted on its website; (3) failure to follow all the instructions in this NOFO; and (4) technical issues experienced with the applicant's computer or information technology environment.

5. Intergovernmental Review

Intergovernmental Review is required for this program. Applicants must contact their State Single Point of Contact to comply with their State's process under Executive Order 12372.

6. Funding Restrictions

Consistent with 2 CFR 200.458, as applicable, FRA will only approve pre-award costs if such costs are incurred pursuant to the negotiation and in anticipation of the grant agreement and if such costs are necessary for efficient and timely performance of the scope of work.²² Under 2 CFR 200.458, grant recipients must seek written approval from FRA for pre-award activities to be eligible for reimbursement under the grant. Activities initiated prior to the execution of a grant or without FRA's written approval may be ineligible for reimbursement or matching contribution. Cost sharing or matching may be used only for authorized Federal award purposes.

²² For more information on pre-award costs under this program, see FRA Answers to Frequently Asked Questions about Pre-Award Authority, available at: https://railroads.dot.gov/sites/fra.dot.gov/files/2023-03/2023-03-06%20FSP%20NEC%20Pre-Award%20FAQ_PDFa.pdf.

FRA may consider interest and other financing costs of efficiently carrying out a part of the project within a reasonable time as eligible if the applicant demonstrates reasonable diligence in seeking the most favorable financing terms and provides a certification to that effect as required in 49 U.S.C. 24911(g)(2)(C)(iii). Interest and financing costs must meet the requirements specified in 2 CFR part 200, including section 2 CFR 200.449 to be considered eligible.

Applicants should be aware that, for a partially funded project, depending upon applicable Federal law and the relationship among FSP-funded and non-FSP funded project portions, the FSP award may cause non-FSP funded portions to be subject to Federal requirements as described in Section F(2). For example, the NEPA review for the FSP-funded project component may need to include evaluation of all project components as connected, similar, or cumulative actions.

7. Other Submission Requirements

Please use generally accepted formats such as .pdf, .doc, .docx, .xls, .xlsx, and .ppt when uploading attachments. While applicants may embed picture files such as .jpg, .gif, and .bmp in document files, applicants should not submit attachments in these formats. Additionally, the following formats will not be accepted: .com, .bat, .exe, .vbs, .cfg, .dat, .db, .dbf, .dll, .ini, .log, .ora, .sys, and .zip.

E. Application Review Information

1. Criteria

A. Completeness and Eligibility Criteria

FRA will first screen each application for applicant and project eligibility (eligibility requirements are outlined in Section C of this notice), completeness (application documentation and submission requirements are outlined in Section D of this notice), and non-Federal match requirements (outlined in Section C(2) of this notice).

For projects that have a shared benefit to intercity and commuter rail services, FRA will determine whether Amtrak and the public authorities providing Commuter Rail Passenger Transportation at the eligible project location are in compliance with 49 U.S.C. 24905(c)(2) and have identified funding for the intercity passenger rail share, the commuter rail share, and the local share of the eligible project before the commencement of the project. Applicants must identify these shares for the Lifecycle Stage(s) for which they are seeking funding (for example, an application seeking funding for Project Development must identify funding shares only for the Project Development Lifecycle Stage and not for the FD and Construction stages of the same project).

Then, FRA will determine whether the proposed project in each eligible and complete application is consistent with the 2024 Inventory and, if not, whether there has been a material change to infrastructure or service conditions, changes in Project Sponsor capabilities or commitments, or other significant changes since publication of the 2024 Inventory, consistent with 49 U.S.C. 24911(d)(1)(A). FRA will review whether the Project Sponsor, Funding Need, Lifecycle Stage and Schedule, and Scope as provided in the submitted application are consistent with the 2024 Inventory. Project Sponsors must explain changes or inconsistencies between the 2024 Inventory and their submitted application to ensure compliance. For this criterion, FRA will use the rubric rating defined below in evaluating the degree to which applications are responsive to the criteria.

Eligibility Criteria Rating—NEC Project Inventory Consistency
[For the Inventory consistency criteria described in Section E(1)(A), FRA will evaluate the application's responsiveness to the criteria and the merit of the response, including an assessment of supporting justifications, and assign an Inventory consistency rating.]
Inconsistent | Minimally consistent | Highly consistent
Project does not appear on the most recently published NEC Project Inventory. | Project appears on the most recently published NEC Project Inventory. One or more of the Project Sponsor, Funding Need, Lifecycle Stage, Schedule, or Scope is inconsistent with the Inventory, and there is limited or no information to justify or explain the change. | Project appears on the most recently published NEC Project Inventory. The Project Sponsor, Funding Need, Lifecycle Stage, Schedule, and Scope are consistent with the Inventory or are inconsistent, but sufficient and reasonable information to justify or explain the change has been provided.

Applications that are determined to be incomplete, that describe an ineligible applicant or project, that describe an insufficient non-Federal share, or receive a rating of “Inconsistent” on the above rubric are ineligible and will not proceed to the Evaluation Review Phase.

B. Merit Criteria

FRA will evaluate all eligible and complete applications using the evaluation criteria outlined in this section to determine project readiness, technical merit, and project outcomes.

i. Project Readiness

In evaluating project readiness, FRA will evaluate project risk based on the applicant's preparedness and capacity to implement the proposed project, including whether the applicant is reasonably equipped to begin the capital or planning project in a timely manner to meet its proposed schedule. FRA will evaluate whether the applicant is able to meet project milestones and use Federal funds efficiently to deliver the proposed project.²³

²³ Additional information on DOT's Project Readiness checklist can be found here: https://www.transportation.gov/grants/dot-navigator/project-readiness-checklist-dot-discretionary-grant-applicants.

FRA will evaluate the application for the degree to which—

a. The application demonstrates environmental readiness, evidenced by the status of required NEPA actions and environmental permitting readiness (if applicable);

b. The application demonstrates that the project has completed or will complete any preceding Lifecycle Stage(s) and the project is able to complete all requirements of the proposed Lifecycle Stage(s) with the requested funding;

c. Project partner coordination and commitments are secured or able to be secured without undue delay;

d. The status and timeline of agreements, including the agreement required under 49 U.S.C. 22905(c)(1), Cost Share Agreements, and other agreements necessary for the legal, financial, and technical capacity to complete the project, are sufficiently developed for the proposed project Lifecycle Stage;

e. The applicant demonstrates financial readiness, including commitment of funds for proposed non-Federal matching sources in the form of cost sharing agreements or signed financial commitment letters.

f. The application demonstrates an understanding of the risk, if any, related to force account, the force account impact on project implementation, and the coordination and planning required to mitigate those risks; and

g. The application demonstrates an understanding of track outages needed to complete the proposed Lifecycle Stage(s), if any, and that related systems to manage track outage needs are sufficiently advanced.

ii. Technical Merit

In evaluating technical merit, FRA will evaluate the degree to which the application, statement of work, schedule, and budget are reasonable and appropriate to achieve the expected outcomes, commit the necessary resources and workforce to deliver the project, and the proposed project elements that are appropriate for the project funding request. FRA will also consider applicant risk, including the applicant's past performance in developing and delivering similar projects. FRA will evaluate application information for the degree to which—

a. The tasks and subtasks outlined in the SOW are appropriate to achieve the expected outcomes of the proposed project;

b. The technical qualifications and experience of key personnel the applicant proposes to lead and perform the technical efforts, including the qualifications of the primary and supporting organizations, demonstrates the ability to execute the proposed project fully and successfully within the proposed time frame and budget. Discussion of applicant qualifications should include experience in managing similar projects and specifically address the considerations in 2 CFR 200.206(b); and

c. The applicant has, or will have the legal, financial, and technical capacity to carry out the proposed project, to retain satisfactory continuing access over the use of the equipment or facilities, and the capability and willingness to maintain the equipment or facilities.

iii. Project Outcomes

The NEC is the busiest passenger railroad in the United States. As such, projects located on the NEC and included in the NEC Project Inventory provide a wide range of project outcomes that benefit intercity passenger rail service. Within this context, in evaluating project outcomes under this notice, FRA will focus on the extent to which the project will reasonably:

a. Bring assets into a State of Good Repair and reduce the NEC's State of Good Repair backlog;

b. Improve intercity passenger rail service performance by increasing operating speeds in the project area; and

c. Improve intercity passenger rail service performance by reducing infrastructure-related delays in the project area.

Comprehensive and accurate submission of the requested project outcome data (in the form provided in table 4 of section D(2)(a)) will afford FRA the best opportunity to evaluate a proposed project's projected outcomes, and such responses will be foundational to FRA's assessment of project outcomes.

While FRA has identified these three outcomes as priorities for this NOFO, Project Sponsors are encouraged to identify any further outcomes and benefits of their proposed projects. Project Sponsors are especially encouraged to identify any benefits and outcomes that align with the Administration priorities described under Selection Criteria, below.

For each of the merit criteria, FRA will use the rubric ratings defined below in evaluating the degree to which applications are responsive to the criteria.

Merit Criteria Ratings—Project Readiness
[For the project readiness criteria described in Section E(1)(B)(i), FRA will evaluate the application's responsiveness to the criteria and the merit of the response, including an assessment of supporting justifications, and assign a cumulative project readiness risk rating.]
Unacceptable | High risk | Medium risk | Low risk
Application provides limited or no information necessary to assess the project against the project readiness criteria; application does not demonstrate support, progress, or completion of required Lifecycle Stage prerequisites; or application indicates one or more significant barriers that would prevent project delivery. | Application provides insufficient information to assess the project against the project readiness criteria; application does not demonstrate sufficient support, progress, or completion of required Lifecycle Stage prerequisites and indicates risk to advancing the project without foreseeable delays; or application indicates a barrier that would likely prevent project delivery. | Application provides sufficient information to assess the project against the readiness criteria; application demonstrates support, progress, or completion of one or more required Lifecycle Stage prerequisites but indicates some risk to advancing the project in a timely manner; and the application does not indicate a barrier that would likely prevent project delivery. | Application provides thorough and complete information and evidence to assess the project against the project readiness criteria demonstrates strong support, progress, or completion of required Lifecycle Stage prerequisites, indicates minimal risk to advancing the project in a timely manner, and application does not indicate a barrier that would likely prevent project delivery.

Merit Criteria Ratings—Technical Merit
For the technical merit criteria described in Section E(1)(B)(ii), FRA will evaluate the application's responsiveness to the criteria and the merit of the response, including an assessment of supporting justifications, and assign a cumulative technical merit rating.]
Unacceptable | Acceptable | Responsive | Highly responsive
Application provides limited or no information necessary to assess the project against the technical merit criteria, or application demonstrates one or more significant technical challenges that would prevent the applicant from delivering the project. | Application contains insufficient information to assess the project against one or more of the technical merit criteria, or application demonstrates technical challenges that could affect project delivery but not prevent the applicant from delivering the project. | Application provides sufficient information and evidence to assess the project against the technical merit criteria and demonstrates that the applicant can deliver the project with minimal technical challenges. | Application provides thorough and complete information and evidence to assess the project against the technical merit criteria and sufficiently demonstrates that the project can be successfully delivered by the applicant.

Merit Criteria Ratings—Project Outcomes
[For the project outcomes criteria described in section E(1)(B)(iii), FRA will evaluate the application's responsiveness to the criteria and the merit of the response, including an assessment of supporting justifications, and assign a cumulative Project Outcomes rating.]
Unacceptable | Acceptable | Responsive | Highly responsive
Application provides limited or no information necessary to assess the project against the project outcomes criteria or demonstrates that the project will not result in State of Good Repair, higher operating speed, or infrastructure delay reduction outcomes. | Application contains insufficient information to assess the project against the project outcomes criteria or does not demonstrate that the project will achieve all of its intended State of Good Repair, higher operating speed, or infrastructure delay reduction outcomes. | Application provides sufficient information to assess the project against the project outcomes criteria and adequately demonstrates that the project will likely achieve State of Good Repair, higher operating speed, or infrastructure delay reduction outcomes. | Application provides thorough and complete information and evidence to assess the project against the project outcomes criteria and sufficiently demonstrates that the project will achieve one or more significant State of Good Repair, higher operating speed, or infrastructure delay reduction outcomes.

C. Selection Criteria

After completing the evaluation criteria review, FRA will apply the selection preferences described in Section E(1)(C)(i), consider the Administration priorities described in Section E(1)(C)(ii), and compare the applicant's proposed Federal share to the Funding Considerations described in Section E(1)(C)(iii).

i. Program Preferences

FRA will apply program preferences in the order of priority listed below:

a. Major Backlog Projects; then

b. Capital Renewal, Improvement, and Station projects that are:

i. In or entering the Construction Lifecycle Stage; then

ii. In or entering the Final Design Lifecycle Stage; then

iii. In or entering the Planning or Project Development Lifecycle Stages; and

c. Within each of the Lifecycle Stages above, Capital Renewal, Improvement, and Station projects that exhibit one or more of the following features:

i. Reduction in the NEC's State of Good Repair backlog;

ii. Demonstration of likelihood of significant Intercity Passenger Rail outcomes; and

iii. Require a Federal share of less than 80 percent of the Total Project Cost; then

d. Planning Studies.²⁴

²⁴ While these program preferences align with the 2024 Inventory, applications received by FRA through this NOFO may result in a selection of projects that differs from the sequence that appears on the 2024 Inventory.

ii. Administration Priorities

FRA will consider the extent to which projects achieve and are responsive to the following key Administration priorities:

Safety: FRA will assess the project's ability to foster a safe transportation system for the movement of goods and people, consistent with the Department's strategic goal to reduce transportation-related fatalities and serious injuries across the transportation system. Such considerations will include, but are not limited to, the extent to which the project improves and upgrades infrastructure to achieve a higher level of safety, provides substantial safety benefits compared to existing conditions and uses an appropriately trained workforce. Overall, FRA expects that projects will provide positive safety benefits for all users and not negatively impact safety for all users.

Climate Change and Sustainability: FRA will assess the project's ability to reduce the harmful effects of climate change and anticipate necessary improvements to prepare for extreme weather events. Such considerations may include, but are not limited to, the extent to which the project reduces emissions, promotes energy efficiency, increases resiliency, incorporates evidence-based climate resilience measures or features, and avoids adverse environmental impacts to air or water quality, wetlands, and endangered species. Projects that lead to a significant reduction of emissions resulting from rehabilitating, remanufacturing, procuring, and overhauling a locomotive meet the objective of this priority.

Applicants are encouraged to use the DOT Navigator Climate checklist (https://www.transportation.gov/grants/dot-navigator/checklist-strong-climate-change-mitigation-adaptation-and-resilience-grant) in responding to this criterion. Applications that are rated highly on this criterion will be those that use data-driven and evidence-based methods to demonstrate that the project will:

• Significantly reduce greenhouse gas (GHG) emissions in the transportation sector; and

• Incorporate evidence-based climate resilience measures or features, including those that advance objectives in the National Climate Resilience Framework (https://www.whitehouse.gov/wp-content/uploads/2023/09/National-Climate-Resilience-Framework-FINAL.pdf).

Equity and Justice40: FRA will assess elements including how the project will create positive outcomes that will reduce, mitigate, or reverse how a community is experiencing disadvantages through increasing affordable transportation options, improving health or safety, reducing pollution, connecting Americans to good-paying jobs, fighting climate change, and/or improving access to nature, resources, transportation or mobility, and quality of life. FRA will consider the benefits and potential burdens a project may create, who would experience them and how the benefits and potential burdens will impact disadvantaged communities.

Applicants should use the Climate and Economic Justice Screening Tool (CEJST) as the primary tool to identify disadvantaged communities (Justice40 communities).²⁵ Applicants are strongly encouraged to use the USDOT Equitable Transportation Community (ETC) Explorer to understand how their community or project area is experiencing disadvantage related to lack of transportation investments or opportunities. Through understanding how a community or project area is experiencing transportation-related disadvantage, applicants are able to address how the benefits of a project will reverse or mitigate the burdens of disadvantage and demonstrate how the project will address challenges and accrue benefits.

²⁵ Established by Executive Order 14008 on Tackling the Climate Crisis at Home and Abroad, the Justice40 Initiative sets a goal that 40% of the overall benefits of certain Federal investments in climate, clean energy, and other areas flow to disadvantaged communities that are marginalized by underinvestment and overburdened by pollution. Pursuant to M-21-28 and M-23-09, issued by the White House Office of Management and Budget, White House Council on Environmental Quality, and White House Office of Domestic Climate Policy, USDOT recognizes disadvantaged communities as the census tracts that are identified as disadvantaged by the CEJST, as well as all Federally Recognized Tribes and Tribal entities.

Applicants are strongly encouraged to use the FRA's Justice40 Rail Explorer Tool, (https://usdot.maps.arcgis.com/apps/webappviewer/index.html?id=fd9810f673b64d228ae072bead46f703) to identify the rail infrastructure in their project and features of the surrounding community as the basis of their assessment. The FRA Justice40 Rail Explorer Tool is a rail-specific complement to the USDOT ETC Explorer and leverages the same methodology and metrics. The FRA Justice40 Rail Explorer Tool provides GIS information on existing rail infrastructure, communities, and pollution levels based on the proposed project's location, and applicants can thus use this tool to note how their project location scores across several different measures. Transportation disadvantaged communities experience burden, as a result of underinvestment in transportation, in the following five components: Transportation Insecurity, Climate and Disaster Risk Burden, Environmental Burden, Health Vulnerability, and Social Vulnerability.

Workforce Development, Job Quality, and Wealth Creation: FRA will assess how the project will create good-paying, safe jobs with free and fair choice to join a union including through the use of a project labor agreement, promote investments in high-quality workforce development programs, adopt local and economic hiring preferences for the project workforce, and promote local inclusive economic and entrepreneurship programs.

For Administration priorities, FRA will consider the application's responsiveness to the criteria, and will provide a rating of “Non-responsive, “Acceptable,” “Responsive,” or “Highly Responsive” as described in the rubric below. Applicants should provide a response for each Administrative Priority addressed by their proposed project. Applicants do not need to respond to an Administration Priority if it is not applicable to their proposed project.

Administration Priorities
[For the Administration priorities Criteria described in Section E(1)(C)(ii), FRA will consider the application's responsiveness to the criteria, including an assessment of supporting justifications.]
Non-responsive | Acceptable | Responsive | Highly responsive
Application contains insufficient information to assess the project against any of the Administration Priorities, or project is inconsistent with one or more of the Administration priorities. | Application contains limited information that is supported by some evidence, but primarily described qualitatively, that the project is consistent with at least one of the Administration priorities. | Application contains sufficient information, that is adequately supported by both quantitative and qualitative evidence, that the project has clear and direct benefits in at least one of the Administration priority areas. | Application contains thorough and complete information, that is strongly supported by both quantitative and qualitative evidence, that the project has clear, direct, and significant benefits in one or more of the Administration priority areas and is not inconsistent with any of the Administration priorities.

iii. Funding Considerations

In determining FSP Program funding allocations, FRA will fund Major Backlog Projects at up to 80 percent of the Funding Need. FRA will generally fund Capital Renewal, Improvement, and Station projects applying under this notice between 50 and 80 percent of the Funding Need. For Capital Renewal, Improvement and Station projects, FRA will consider a higher Federal share, within this range, to the extent such projects:

(A) Bring assets supporting Intercity Passenger Rail service into a State of Good Repair; and

(B) Demonstrate likelihood of significant Intercity Passenger Rail outcomes.

FRA encourages applicants to incorporate these funding considerations in preparing their applications and developing their proposed FSP funding requests and non-Federal share amounts.

Upon completion of all reviews, FRA will finalize an Overall Rating for each application. This rating will be a combination of the results of the Inventory consistency review, the three merit criteria reviews, specifically, project readiness, technical merit, and project outcomes criteria ratings as described in Sections E(1)(B)(i)-E(1)(B)(iii), and the Administration priorities as described in Section E(1)(C)(ii). Provided in the Overall Rating rubric below, each rating has defined parameters to which each application will be assessed.

Overall Rating
Not recommended | Acceptable | Recommended | Highly recommended
Application received an overall score of unacceptable based on Inventory consistency, project readiness, technical merit, and project outcomes ratings and consideration of Administration priorities. | Application received an overall score of acceptable based on Inventory consistency, project readiness, technical merit, and project outcomes ratings and consideration of Administration priorities. | Application received an overall score of recommended based on Inventory consistency, project readiness, technical merit, and project outcomes ratings and has clear and direct benefits in one of the Administration priorities. | Application received an overall score of highly recommended based on Inventory consistency, project readiness, technical merit, and project outcomes ratings and has clear, direct, and significant benefits in one or more of the Administration priorities.

The evaluation process may draw upon subject matter experts within FRA whose expertise is relevant to understanding the application's responsiveness to the program criteria, such as assessing the applicant's capacity to successfully deliver the project in compliance with applicable Federal requirements based on factors including, but not limited to, the recipient's experience working with Federal agencies, previous experience with DOT discretionary grant awards and/or the technical experience and resources dedicated to the project.

Finally, in determining the allocation of program funds, FRA may also consider geographic diversity, diversity in the size of the systems receiving funding, and the applicant's receipt of other competitive awards.

2. Review and Selection Process

FRA will conduct a five-part application review process, as follows:

i. Intake and Eligibility Phase: Screen applications for applicant and project eligibility, completeness, and the minimum non-Federal share; evaluate eligible and complete applications against the eligibility criteria (Inventory consistency; phase completed by the Evaluation Management and Oversight Team (EMOT), comprised of FRA program review directors who manage the pre-award process).

ii. Evaluation Review Phase: Evaluate applications successfully passing through Intake and Eligibility Reviews against the merit criteria (project readiness, technical merit, and project outcomes) specified in this notice and the applicant's ability (based on past performance) to develop and deliver similar projects, as well as alignment with the Administration priorities. This phase is completed by technical merit, environmental risk, and NEC impact review panels consisting of FRA and other DOT staff. The EMOT will compile the results of the Evaluation Review Phase consistent with the FSP Program selection preferences. After considering all FRA reviews under the criteria, applications will be assigned an overall rating of “Highly Recommended,” “Recommended,” “Acceptable,” or “Not Recommended.”

iii. Steering Committee Phase: The Steering Committee is comprised of Senior Directors with the Office of Railroad Development and may also include senior leadership from the Railroad Office of Safety and other relevant departments. The EMOT briefs the Steering Committee on all rated applications, consistent with the prioritization reflected on the NEC Project Inventory, and the Steering Committee may request more information from FRA offices whose expertise may be relevant. The Steering Committee provides strategic direction, in line with program goals outlined in this NOFO, on the development of funding scenario materials, including LOI and PFA recommendations for Highly Rated projects, and approach for the Senior Review Team (SRT) briefing.

iv. Senior Review Phase: The SRT will review, apply selection criteria, and recommend initial selection of projects and LOI/PFAs for the FRA Administrator's review. The SRT may include senior leadership from the Office of the Secretary and FRA.

v. Selection and Award Phase: The FRA Administrator selects awards for the Secretary's or his designee's review and approval and announces selections.

3. Reporting Matters Related to Integrity and Performance

Before making a Federal award with a total amount of Federal share greater than the simplified acquisition threshold of $250,000 (see 2 CFR 200.88 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a Federal awarding agency previously entered and is currently in the designated integrity and performance system accessible through SAM.

FRA will consider any comments by the applicant, in addition to the other information, in making a judgment about the applicant's integrity, business ethics, and record of performance under Federal awards when completing the review of risk posed by applicants as described in 2 CFR 200.205.

F. Federal Award Administration Information

1. Federal Award Notice

FRA will announce applications selected for funding in a press release and on FRA's website after the application review period. This announcement is FRA's notification to successful and unsuccessful applicants alike. Following this announcement, FRA will contact the point of contact listed in the SF 424 to initiate negotiation of a project-specific agreement. This notification is not an authorization to begin proposed project activities. FRA requires satisfaction of applicable requirements by the applicant and a formal agreement signed by both the grantee and the FRA, including an approved scope, schedule, and budget, before obligating the grant.

2. Administrative and National Policy Requirements

In connection with any program or activity conducted with or benefiting from funds awarded under this notice, grantees of funds must comply with all applicable requirements of Federal law, including, without limitation, the Constitution of the United States; the conditions of performance, nondiscrimination requirements, and other assurances made applicable to the award of funds in accordance with regulations of DOT; and applicable Federal financial assistance and contracting principles promulgated by the Office of Management and Budget. In complying with these requirements, grantees, in particular, must ensure that no concession agreements are denied, or other contracting decisions made on the basis of speech or other activities protected by the First Amendment. If DOT determines that a grantee has failed to comply with applicable Federal requirements, DOT may terminate the award of funds and disallow previously incurred costs, requiring the grantee to reimburse any expended award funds.

Examples of administrative and national policy requirements include: procurement standards at 2 CFR part 200 subpart D, 2 CFR 1201.317, and 2 CFR 200.401; compliance with Federal civil rights laws and regulations; disadvantaged business enterprises requirements; debarment and suspension requirements; drug-free workplace requirements; FRA's and OMB's Assurances and Certifications; ADA requirements; safety requirements; NEPA, including consideration of environmental justice requirements; and compliance with 49 U.S.C. 24905 for the duration of NEC Projects. Unless otherwise stated in statutory or legislative authority, or appropriations language, all financial assistance awards follow the Uniform Administrative Requirements, Cost Principles and Audit Requirements for Federal Awards at 2 CFR part 200 and 2 CFR part 1201.

Assistance under this NOFO is subject to the grant conditions in 49 U.S.C. 22905, including protective arrangements that are equivalent to the protective arrangements established under section 504 of the Railroad Revitalization and Regulatory Reform Act of 1976 (45 U.S.C. 836) with respect to employees affected by actions taken in connection with the project to be financed in whole or in part by grants subject to 49 U.S.C. 22905, the provision deeming operators rail carriers and employers for certain purposes, and grantee agreements with railroad right-of-way owners for projects using railroad rights-of-way (see Section D(2)(a)).²⁶

²⁶ More information on labor protections can be found here: https://railroads.dot.gov/elibrary/equivalent-labor-protections.

Projects must sufficiently consider climate change and environmental justice in their planning, as determined by FRA and consistent with core policy goals of assessing these potential impacts. For example, see Executive Order 14008, Tackling the Climate Crisis at Home and Abroad (86 FR 7619) and Executive Order 14096, Revitalizing Our Nation's Commitment to Environmental Justice for All (88 FR 25251). In the grant agreement, recipients will be expected to describe activities they have taken or will take prior to obligation of Construction funds that addresses climate change and environmental justice. Activities that address climate change include, but are not limited to, demonstrating the project will result in significant GHG emissions reductions; the project supports GHG emissions reductions goals in a Local/Regional/State plan; the project improves disaster preparedness and resilience; the project incorporates resilience in its design; and the project primarily focuses on funding for State of Good Repair and clean transportation options, including public transportation, walking, biking, and micro-mobility. Activities that address environmental justice may include, but are not limited to: basing project design on consideration of community impacts; information gained from screening tools such as CEJST, EPA's EJ Screen, or another appropriate environmental and community impact tool developed by a State agency; conducting enhanced, targeted outreach to potentially affected communities, including disadvantaged communities; considering environmental justice in alternatives analysis and final project design; and supporting a modal shift in freight or passenger movement to reduce GHG emissions or reduce induced travel demand.

Projects must consider and address equity and barriers to opportunity in their planning, as determined by FRA and consistent with Executive Order 13985, Advancing Racial Equity and Support for Underserved Communities Through the Federal Government (86 FR 7009). The grant agreement should include the grantee's description of activities it has taken or will take prior to obligation of Construction funds that addresses equity and barriers to opportunity. These activities may include, but are not limited to: completing an equity impact analysis for the project; completing a community needs assessment; adopting an equity and inclusion program/plan; conducting meaningful public engagement to ensure underserved communities are provided an opportunity to be involved in the planning process; including investments that either redress past barriers to opportunity or that proactively create new connections and opportunities for underserved communities; hiring from local communities; improving access to or providing economic growth and wealth building opportunities for underserved, overburdened, or rural communities; or addressing historic or current inequitable air pollution or other environmental, health, or economic burdens and impacts.

To the extent that applicants have not sufficiently considered job quality and labor rights in their planning, as determined by the Department of Labor, consistent with Executive Order 14025, Worker Organizing and Empowerment (86 FR 22829), and Executive Order 14052, Implementation of the Infrastructure Investment and Jobs Act (86 FR 64335). Specifically, the Project Planning activities and project delivery actions must support: (a) strong labor standards and the free and fair choice to join a union, including project labor agreements, local hire agreements, distribution of workplace rights notices, and use of an appropriately trained workforce; (b) support of high-quality workforce development programs, including registered apprenticeship, labor-management training programs, and supportive services to help train, place, and retain people in good-paying jobs and apprenticeships; and (c) comprehensive planning and policies to promote hiring and inclusion for all groups of workers, including through the use of local and economic hiring preferences, linkage agreements with workforce programs that serve underrepresented groups, and proactive plans to prevent harassment. (See Article 11 of FRA's Attachment 2: Project-Specific Terms and Conditions for a list of project activities that address efforts to support good-paying jobs and strong labor standards, available at: https://railroads.dot.gov/sites/fra.dot.gov/files/2024-02/Attachment_2_Project_Specific_Terms_12.11.23_PDFa.pdf).

a. Federal Contract Compliance

As a condition of grant award and consistent with Executive Order 11246, Equal Employment Opportunity (30 FR 12319, and as amended), all federally assisted contractors are required to make good faith efforts to meet the goals of 6.9 percent of Construction project hours being performed by women, in addition to goals that vary based on geography for Construction work hours and for work being performed by people of color. Under Section 503 of the Rehabilitation Act of 1973 and its implementing regulations, affirmative action obligations for certain contractors include an aspirational employment goal of 7 percent workers with disabilities.

The U.S. Department of Labor's Office of Federal Contract Compliance Programs (OFCCP) is charged with enforcing Executive Order 11246, Section 503 of the Rehabilitation Act, and the Vietnam Era Veterans' Readjustment Assistance Act of 1974. OFCCP has a Mega Construction Project Program through which it engages with Project Sponsors as early as the design phase to help promote compliance with non-discrimination and affirmative action obligations. OFCCP will identify projects that receive an award under this notice and are required to participate in OFCCP's Mega Construction Project Program from a wide range of federally assisted projects over which OFCCP has jurisdiction and that have a project cost above $35 million. DOT will require Project Sponsors with costs above $35 million that receive awards under this funding opportunity to partner with OFCCP, if selected by OFCCP, as a condition of their DOT award.

All expenses incurred for an FSP funded project on the 2024 Inventory must comply with FSP requirements. If a Project Sponsor incurs any costs for a project that is on the NEC Project Inventory, the Project Sponsor must ensure compliance with FSP program requirements to receive FSP funding, regardless of whether the cost is funded by the FSP program, because it is part of the project that is on the Inventory. If the Project Sponsor is unable to bring any components of the project into compliance with FSP Program requirements, the applicant must define a component project, consistent with requirements outlined in Section C(3)(b), for the use of FSP funding and demonstrate a reduction of the Total Project Cost (commensurate with the cost of the non-compliant component) from the Funding Need depicted for the project in the 2024 Inventory.

b. Critical Infrastructure Security Cybersecurity and Resilience

It is the policy of the United States to strengthen the security and resilience of its critical infrastructure against all hazards, including physical and cyber risks, consistent with Presidential Policy Directive 21—Critical Infrastructure Security and Resilience, and the National Security Memorandum (NSM-5) on Improving Cybersecurity for Critical Infrastructure Control Systems. Each applicant selected for Federal funding must demonstrate, prior to signing of the grant agreement, efforts to consider and address physical and cyber security risks relevant to the transportation mode and type and scale of the project. Projects that have not appropriately considered and addressed physical and cyber security and resilience in their planning, design, and project oversight, as determined by the Department and the Department of Homeland Security, will be required to do so before receiving funds.

c. Domestic Preference Requirements

As expressed in Executive Order 14005, Ensuring the Future Is Made in All of America by All of America's Workers (86 FR 7475), the executive branch should maximize, consistent with law, the use of goods, products, and materials produced in, and services offered in, the United States. Funds made available under this notice are subject to the domestic preference requirement in 49 U.S.C. 22905(a) (FRA Buy America) and the Build America, Buy America Act, Pub. L. 117-58, 70901-52. The Department expects all applicants to comply with the applicable domestic preference requirements. However, Major Capital Project applicants should include a domestic sourcing plan that provides details on the extent to which the materials covered by the plan are to be imported and the extent to which such materials can be sourced domestically. Applicants should also provide an explanation in the plan of the number of domestic jobs, temporary and permanent, that will be generated by the project and outline a plan to transition any foreign labor responsibilities to domestic jobs. Major Capital Project applicants may also request a waiver from certain Buy America requirements along with the domestic sourcing plan.

d. Civil Rights and Title VI

As a condition of a grant award, grant recipients must demonstrate that the recipient has a plan for compliance with civil rights obligations and nondiscrimination laws, including title VI of the Civil Rights Act of 1964 and implementing regulations (49 CFR part 21), the Americans with Disabilities Act, and Section 504 of the Rehabilitation Act, all other civil rights requirements, and accompanying regulations. This should include a current title VI plan, completed Community Participation Plan, and a plan to address any legacy infrastructure or facilities that are not compliant with ADA standards. DOT's and FRA's Offices of Civil Rights will work with awarded grant recipients to ensure full compliance with Federal civil rights requirements.

e. Project Signage and Public Acknowledgements

As a condition of grant award, for Construction and non-Construction projects, recipients may be required to post project signage and to include public acknowledgments in published and other collateral materials (e.g., press releases, marketing materials, website, etc.) satisfactory in form and substance to DOT, that identifies the nature of the project and indicates that “the project is funded by the Bipartisan Infrastructure Law.” In addition, recipients employing project signage are required to use the official Investing in America emblem in accordance with the Official Investing in America Emblem Style Guide. Costs associated with signage and public acknowledgments must be reasonable and limited. Signs or public acknowledgments should not be produced, displayed, or published if doing so results in unreasonable cost, expense, or recipient burden. Recipients are encouraged to use recycled or recovered materials when procuring signs.

3. Reporting

a. Progress Reporting on Grant Activity

Each applicant selected for a grant will be required to comply with all standard FRA reporting requirements, including quarterly progress reports, quarterly Federal financial reports, and interim and final performance reports, as well as all applicable auditing, monitoring and close out requirements. Reports may be submitted electronically. Pursuant to 2 CFR 170.210, non-Federal entities applying under this NOFO must have the necessary processes and systems in place to comply with the reporting requirements should they receive Federal funding.

b. Additional Reporting

Applicants selected for funding are required to comply with all reporting requirements in the standard terms and conditions for FRA grant awards including 2 CFR 180.335 and 2 CFR 180.350. If the total value of a selected applicant's currently active grants, cooperative agreements, and procurement contracts from all Federal awarding agencies exceeds $10,000,000 for any period of time during the period of performance of this Federal award, then the applicant must maintain the information reported to SAM and ensure that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

c. Performance and Program Evaluation

Recipients and sub-recipients are also encouraged to incorporate program evaluation, including associated data collection activities, from the outset of their program design and implementation to meaningfully document and measure the effectiveness of their projects and strategies. Title I of the Foundations for Evidence-Based Policymaking Act of 2018 (Evidence Act), Public Law 115-435 (2019) urges Federal awarding agencies and Federal assistance recipients and sub-recipients to use program evaluation as a critical tool to learn, to improve equitable delivery, and to elevate program service and delivery across the program lifecycle. Evaluation means “an assessment using systematic data collection and analysis of one or more programs, policies, and organizations intended to assess their effectiveness and efficiency” (codified at 5 U.S.C. 311). Credible program evaluation activities are implemented with relevance and utility, rigor, independence and objectivity, transparency, and ethics (OMB Circular A-11, part 6 section 290).

For grant recipients, evaluation expenses are allowable costs (either as direct or indirect), unless prohibited by statute or regulation, and such expenses may include the personnel and equipment needed for data infrastructure and expertise in data analysis, performance, and evaluation (2 CFR part 200).

d. Performance Reporting

Each applicant selected for funding must collect information and report on the project's performance using measures mutually agreed upon by FRA and the grantee to assess progress in achieving strategic goals and objectives. Examples of some rail performance measures are listed in the table below. The applicable measure(s) will depend upon the type of project. Applicants requesting funding for rolling stock must integrate at least one equipment/rolling stock performance measure, consistent with the grantee's application materials and program goals.

Rail measures | Unit measure | Measurement period | Measurement frequency | Primary administration priority | Secondary administration priority | Description
Slow Order Miles | Miles |  | Quarterly | Workforce Development, Job Quality, and Wealth Creation | Safety | The number of miles per quarter within the project area that have temporary speed restrictions (“slow orders”) imposed due to track condition. This is an indicator of the overall condition of track. This measure can be used for projects to rehabilitate sections of a rail line since the rehabilitation should eliminate, or at least reduce the slow orders upon project completion.
Gross Ton | Gross Tons |  | Quarterly | Workforce Development, Job Quality, and Wealth Creation |  | The annual gross tonnage of freight shipped in the project area. Gross tons include freight cargo minus tare weight of the rail cars. This measures the volume of freight a railroad ships in a year. This measure can be useful for projects that are anticipated to increase freight shipments.
Rail Track Grade Separation | Count |  | Quarterly | Workforce Development, Job Quality, and Wealth Creation | Safety | The number of automobile crossings that are eliminated at an at-grade crossing as a result of a new grade separation.
Equity in Contracting | Count of small businesses contracted | Duration of the Project Performance Period | Annual | Equity |  | Contracting with socially disadvantaged business enterprises, and labor surplus area firms (each a “Small Business”) for the Project].
Justice40 | Health, environmental and other benefits | Duration of the Project Performance Period and/or Beyond | Annual | Environmental Justice | Public Health | Any benefits the project is expected to deliver to improve the health, safety, environment and/or well-being of disadvantaged communities.
Fuel Savings/Emissions | Gallons |  | Annual | Climate Change and Sustainability |  | The total gallons of fuel saved as a result of rehabilitating, remanufacturing, procuring, or overhauling locomotives.

e. Program Evaluation

As a condition of grant award, grantees may be required to participate in an evaluation undertaken by DOT, or another agency or partner. The evaluation may take different forms such as an implementation assessment across grant recipients, an impact and/or outcomes analysis of all or selected sites within or across grantee, or a benefit/cost analysis or assessment of return on investment. The Department may require applicants to collect data elements to aid the evaluation. As a part of the evaluation, as a condition of award, grantee must agree to: (1) make records available to the evaluation contractor; (2) provide access to program records, and any other relevant documents to calculate costs and benefits; (3) in the case of an impact analysis, facilitate the access to relevant information as requested; and (4) follow evaluation procedures as specified by the evaluation contractor or DOT staff.

G. Federal Awarding Agency Contacts

For further information concerning this notice, please contact the FRA NOFO Support program staff via email at FRA-NOFO-Support@dot.gov. If additional assistance is needed, you may contact Mr. Bryan Rodda in FRA's Office of Amtrak and Northeast Corridor Program Delivery by email at Bryan.Rodda@dot.gov or telephone: 202-557-0206; or Mr. Sergio Coronado in FRA's Office of Rail Program Development by email at Sergio.Coronado@dot.gov or telephone: 617-571-1213.

H. Other Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The DOT regulations implementing the Freedom of Information Act (FOIA) are found at 49 CFR part 7 subpart C—Availability of Reasonably Described Records under the Freedom of Information Act which sets forth rules for FRA to make requested materials, information, and records publicly available under the FOIA. Unless prohibited by law and to the extent permitted under the FOIA, contents of application and proposals submitted by successful applicants may be released in response to FOIA requests. In addition, following the completion of the selection process and announcement of awards, FRA may publish a list of all applications received along with the names of the applicant organizations and funding amounts requested. Except for information withheld under the previous paragraph, FRA may also make application narratives publicly available or share application information within DOT or with other Federal agencies if FRA determines that sharing is relevant to the respective program's objectives.

Issued in Washington, DC.
Amitabha Bose,
Administrator.

[FR Doc. 2024-10656 Filed 5-14-24; 8:45 am]

BILLING CODE 4910-06-P